DEPARTMENT OF AGRICULTURE

Office of the Secretary

7 CFR Part 2

RIN 0503-AA66

Revision of Delegations of Authority

AGENCY: Office of the Secretary, USDA.

ACTION: Final rule.

SUMMARY: This document revises the delegations of authority from the Secretary of Agriculture and general officers of the Department of Agriculture (USDA) to reflect changes and additions to the delegations required by the Agriculture Improvement Act of 2018 and for other purposes, as summarized below.

DATES: Effective October 15, 2020.

FOR FURTHER INFORMATION CONTACT: Melissa McClellan, Office of the General Counsel, (202) 720-5565, melissa.mcclellan@usda.gov.

SUPPLEMENTARY INFORMATION: This rule makes several changes to the United States Department of Agriculture's (USDA) delegations of authority in 7 CFR part 2 by adding new delegations and modifying existing delegations.

Overview of Changes

A. Under Secretary for Rural Development and Principal Deputy Chief Financial Officer

Section 12407 of the Agriculture Improvement Act of 2018 (Pub. L. 115-334) amended Section 231 of the Department of Agriculture Reorganization Act of 1994 (7 U.S.C. 6941) to direct the Secretary to establish the position of Under Secretary for Rural Development (RD) as a permanent Presidentially appointed, Senate-confirmed position. The Secretary implemented this provision on August 12, 2019 by establishing the position of Under Secretary for RD and transferring the delegations of authority at 7 CFR 2.17, previously delegated to the Assistant to the Secretary for Rural Development, to the Under Secretary for RD, and realigning the agencies and entities of the RD mission area to report to the Under Secretary for RD. See SM 1076-031 available at https://www.ocio.usda.gov/document/secretarys-memorandum-1076-031. The Secretary also reestablished the position of Deputy Under Secretary for RD and delegated to this position the authority to perform all the duties delegated to the Under Secretary for RD during the absence or unavailability of the Under Secretary. This rule accordingly updates the references to the former position of Assistant to the Secretary for Rural Development throughout part 2 to read “Under Secretary for Rural Development,” and adds a new section of delegations by the Under Secretary for RD to the Deputy Under Secretary for RD at 2.45.

In the same Secretary's Memorandum, the Secretary established a new position, Principal Deputy Chief Financial Officer. This rule revises the delegations of authority at 2.500 to reflect that the authorities previously delegated to the Deputy Chief Financial Officer have been transferred to the Principal Deputy Chief Financial Officer.

B. Agriculture Improvement Act of 2018

The Secretary previously delegated authorities under the Agriculture Improvement Act of 2018 (“the Act”) in Secretary's Memorandum 1076-030 (July 1, 2019), available at https://www.ocio.usda.gov/document/secretarys-memorandum-1076-030. This rule codifies those delegations and makes other changes to existing delegations required by the Act, as follows. Note that delegations of authority made by SM 1076-030 to conduct or prepare a one-time study, report, economic analysis, or similar activity remain in effect until such study, report, economic analysis, or similar activity is completed and are not reflected in this rulemaking.

Section 1203 of Title I of the Act amends section 1207(c) of the Agricultural Act of 2014 (7 U.S.C. 9037) to rename the Economic Adjustment Assistance to Users of Upland Cotton as “Economic Adjustment Assistance for Textile Mills,” and revises Section 1207(c) of the Food, Conservation, and Energy Act of 2008 (7 U.S.C. 8737) to remove a redundant authority. This Rule revises the delegations of authority for the Under Secretary for Marketing and Regulatory Programs (MRP) at 2.22 and the Administrator for the Agricultural Marketing Service (AMS) at 2.79 to reflect that the Secretary transferred responsibility for administering this program from the Farm Service Agency (FSA) Deputy Administrator, Commodity Operations to the AMS Warehouse and Commodity Management Division as part of a Departmental reorganization in November 2017.

Section 1204 of the Act extends the authority for the Special Competitive Provisions for Extra Long Staple Cotton program at Section 1208 of the Agricultural Act of 2014 (7 U.S.C. 9038) through 2024 and revises the loan rate triggering payment. This rule revises the delegations of authority for the Under Secretary MRP and the Administrator for AMS to reflect that the Secretary transferred responsibility for administering payments under subsections (c) and (d) of this authority from FSA to the AMS Warehouse and Commodity Management Division as part of a Departmental reorganization in November 2017. FSA continues to perform responsibilities under 7 U.S.C. 9038 under its general delegation of authority to administer programs of the Commodity Credit Corporation at 2.42(a)(45), through the Under Secretary for Farm Production and Conservation (FPAC) at 2.16(a)(1)(xxv).

Section 1601 amends section 196 of the Federal Agriculture Improvement and Reform Act of 1996 (7 U.S.C. 7333) concerning the noninsured crop assistance program (NAP). FSA continues to administer NAP under its general delegation of authority to administer programs of the Commodity Credit Corporation. This rule revises the delegations of authority to the Administrator of the Risk Management Agency (RMA) at 2.44, through the Under Secretary of FPAC, to include the authority to coordinate with the Administrator of FSA on the type and format of data collected under NAP to ensure that the data is available and useful in developing policies and plans offered under the Federal Crop Insurance Act.

Section 2301 of Title II of the Act made a number of amendments to chapter 4 of subtitle D of title XII of the Food Security Act of 1985 which resulted in changes to the existing statutory citations for conservation authorities delegated to the Chief of the Natural Resources Conservation Service (NRCS) at 2.43, through the Under Secretary for FPAC. This rule revises the delegations of authority for NRCS and FPAC to reflect the updated citations. In addition, this rule adds new delegations of authority for FPAC and NRCS for the feral swine eradication and control program authorized under section 2408 of the Act.

This rule revises the delegations of authority to the Under Secretary for Trade and Foreign Agricultural Affairs (TFAA) at 2.26 and the Administrator of the Foreign Agricultural Service (FAS) at 2.601 to include delegations for the following new authorities under Title III of the Act: Section 3307 (International Agricultural Education and Fellowship Program); section 3308 (International Food Security Technical Assistance); and section 3312 (Foreign Trade Missions).

The rule also revises the delegations of authority to the Director of the Office of Tribal Relations (OTR) at 2.701, through the Director of the Office of Office of Partnerships and Public Engagement (OPPE) at 2.38, to include the authority to consult with the Under Secretary for TFAA on the implementation of section 3312 of the Act to support greater inclusion of Tribal agricultural food products in Federal trade activities. The Director of OTR continues to advise the Secretary on matters of policy related to Indian tribes and to serve as the primary point of contact in accessing Department-wide information regarding tribal issues.

Title IV of the Act provides three new authorities that require delegations. Section 4021 amends the Food and Nutrition Act of 2008 to authorize pilot projects to encourage the use of public-private partnerships committed to addressing food insecurity. This rule adds a new delegation of authority for the Director of the National Institute of Food and Agriculture (NIFA) at 2.66, through the Under Secretary for Research, Education, and Economics (REE) at 2.21, to administer this program in consultation with the Under Secretary for Food, Nutrition, and Consumer Services (FNCS) and Administrator of the Food and Nutrition Service (FNS). Section 4206 authorizes a micro-grant program to increase food security, which is delegated to the Under Secretary for MRP and the Administrator of AMS. This rule also revises the delegations of the Under Secretary for FNCS at 2.19 and the Administrator of FNS at 2.57 to include a new authority under section 4208 of the Act for health fluid milk incentive projects.

Sections 4018 and 4104 of the Act makes several changes to the Emergency Food Assistance Act of 1983 (EFAA). The authority to administer the EFAA is covered by existing delegations to the Under Secretary for FNCS and the Administrator of FNS; this rule revises those delegations to reflect that the EFAA has been amended and to update the U.S. Code citation for the EFAA, which is now located at 7 U.S.C. 7501 et seq.

Title V of the Act, at section 5413, includes a new authority requiring the Secretary to submit to Congress on an annual basis a report describing certain characteristics of producers receiving farm loans and aspects of the loans for each State and county of the United States, and to submit to Congress every five years a comprehensive review of all annual reports. This authority has been delegated to the Under Secretary of FPAC and redelegated to the Administrator of FSA.

Title VI of the Act, at section 6212, includes a new authority requiring the Secretary of Agriculture to consult with the Assistant Secretary of Commerce for Communications and Information to assist in the verification of eligibility of the broadband loan and grant programs of the Department of Agriculture (7 U.S.C. 950bb-6). This rule revises the delegations of authority for the Under Secretary for Rural Development (formerly the Assistant to the Secretary for Rural Development) at 2.17 and the delegations of authority for the Administrator of the Rural Utilities Service (RUS) at 2.47 to include this authority.

Section 6302 of the Act is a new provision directing the Secretary, in coordination with the Office of Tribal Relations, to provide technical assistance to improve access by Tribal entities to rural development programs funded by the Department of Agriculture through available cooperative agreement authorities (7 U.S.C. 2671). This rule delegates this authority to the Under Secretary for RD at 2.17 and redelegates the authority to the Administrators of RUS, the Rural Business Cooperative Service (RBS), and the Rural Housing Service (RHS) at 2.47, 2.48, and 2.49, respectively. It also revises the delegations of authority to the Director of OTR to reflect this new authority.

Section 6504 of the Act makes changes to the Rural Economic Development Loan and Grant program at sections 313 and 313B of the Rural Electrification Act of 1936. The authority to administer the grant programs had previously been delegated by the Under Secretary for RD to the Administrator of RBS at 2.48, and the general delegation of authority from the Under Secretary for RD to the RUS Administrator to administer the Rural Electrification Act of 1936 at 2.47 had expressly excluded the authority to administer the rural economic development loan and grant program. This rule revises the general delegation of authority to the RUS Administrator at 2.47(a)(1) to remove the exception for the administration of the rural economic development loan and grant program to reflect the Secretary's intent that the RUS Administrator have delegated authority for the program under the Rural Electrification Act.

Subtitle A of Title VII of the Act adds several sections to the National Agricultural Research, Extension, and Teaching Policy Act of 1977 that require new delegations of authority. Section 7110 of the Act (7 U.S.C. 3158) authorizes a next generation agriculture technology challenge competition to incentivize mobile technology that removes marketplace entry barriers for beginning farmers and ranchers. Section 7116 of the Act (7 U.S.C. 2207d) directs the Secretary to prepare an annual report for Congress on disbursements of funds for agricultural research and extension at 1890 and 1862 Institutions under specific program authorities. Section 7117 (7 U.S.C. 3222a) authorizes grants to 1890 Institutions for purposes of awarding scholarships to individuals pursuing careers in the food and agricultural sciences, and section 7120 (7 U.S.C. 3222e) authorizes competitive grants to land-grant colleges and universities to provide support for Tribal students. Section 7126 (7 U.S.C. 3310a) authorizes competitive grants for the acquisition of special purpose scientific research equipment for use in the food and agricultural sciences programs of eligible institutions. This rule revises the delegations to reflect that all these authorities are delegated to the Under Secretary for REE and redelegated to the Director of NIFA.

Section 7123 of the Act (7 U.S.C. 3292) authorizes the Secretary to carry out several activities to promote cooperation and coordination between land grant institutions and international partner institutions in developing countries. This rule delegates the authority to carry out this section to the Administrator of the Agricultural Research Service (ARS) at 2.65 and the Director of NIFA, through the Under Secretary for REE, in coordination with the Administrator of FAS through the Under Secretary for TFAA, on the placement of interns from covered institutions in developing countries.

Section 7132 of the Act (7 U.S.C. 3319k) establishes a new pilot program, the Agriculture Advanced Research and Development Authority (“AGARDA”), which includes the authority to award grants and enter into contracts, cooperative agreements, and other transactions. The authority to administer the AGARDA program is delegated to the Under Secretary for REE.

Section 7212 of the Act (7 U.S.C. 5925g) authorizes the Secretary to make competitive grants to support development of urban, indoor, and other emerging agricultural production activities. This authority is delegated to the NIFA Director through the Under Secretary for REE. Section 7501 of the Act amends two sections of the Critical Agricultural Materials Act; this rule updates the language accompanying the existing delegations to the Under Secretary for REE and NIFA Director for these authorities codified at 7 U.S.C. 178-178n.

Section 7505 of the Act amends the Research Facilities Act to authorize a new competitive grant program to assist in the construction, alteration, acquisition, modernization, renovation, or remodeling of agricultural research facilities (7 U.S.C. 390b). This authority is delegated to the Director of NIFA through the Under Secretary for REE.

Section 7608 of the Act reauthorizes the Agriculture Innovation Center Demonstration Program under section 6402 of the Farm Security and Rural Investment Act of 2002. This rule revises the existing delegations of authority to the Under Secretary for RD at 2.17 and the Administrator, Rural Business-Cooperative Service (RBS) at 2.48 to reflect that this authority has been editorially reclassified from 7 U.S.C. 1621 note to 7 U.S.C. 1632b.

Section 7611 of the Act renames the Agriculture Conservation Experienced Services (ACES) program authorized under section 1252 of the Food Security Act of 1985 (16 U.S.C. 3851) the “Experienced Services Program” and expands the authority to cover technical, professional, and administrative services to support the Research, Education, and Economics mission area of the Department. This rule adds new delegations of authority for the expanded program authority to the Under Secretary for REE and NIFA.

Title VIII of the Act adds or amends several authorities requiring new delegations of authority. Section 8102 amends the Cooperative Forestry Assistance Act of 1978 to establish a competitive grant program to encourage science-based restoration of priority forest landscapes (16 U.S.C. 2109a). This authority is covered by the existing general delegations of authority to the Under Secretary for Natural Resources and Environment (NRE) and the Chief of the Forest Service at 2.20 and 2.60, respectively, to administer programs of cooperative forestry assistance. This rule revises the delegations of authority for the Under Secretary for FPAC and the Chief of NRCS to add an authority for the program at 16 U.S.C. 2109a.

Section 8623 authorizes the Secretary to lease administrative sites under the Secretary's jurisdiction. This rule revises the general delegations of authority to the Under Secretary for NRE and the Chief of the FS to acquire and dispose of Forest Service lands to add leasing authority. This rule also revises the delegations to the Under Secretary for FPAC and the Chief of NRCS to include the authority at Section 8628 of the Act related to the purchase of NRCS property in Riverside County, California by the Riverside Corona Resource Conservation District. The rule also delegates the new authority under Section 8643 of the Act to administer a wood innovation grant program (7 U.S.C. 7655d) to the Under Secretary for NRE and the Chief of the Forest Service.

Section 8702 of the Act amends the Secure Rural Schools and Community Self-Determination Act of 2000 (16 U.S.C. 7125) to extend the Resource Advisory Committee functions and modify the membership requirements. This rule revises the delegations of authority to the Under Secretary for NRE and the Chief of the Forest Service to include the authority to administer the Secure Rural Schools payments to states program (16 U.S.C. 500; 16 U.S.C. 7101-7153); and to establish, maintain, and appoint members to Resource Advisory Committees (16 U.S.C. 7125). The Secretary previously delegated the authority to the Under Secretary for NRE to appoint members to the Secure Rural Schools Resource Advisory Committees in a Secretary's Memorandum issued on November 28, 2019.

Title IX of the Act at section 2009 amended the biobased market program authority at section 9002 of the Farm Security and Rural Investment Act of 2002 (7 U.S.C. 8102) to direct the Secretary to administer the program through the Rural Development mission area, with the exception of the authority at subsection (g) related to the Forest Products Laboratory. This rule adds new delegations to the Under Secretary for RD and the Administrator of RBS to carry out this program and revokes the delegations of authority for this program for the Assistant Secretary for Administration and the Director, Office of Property and Fleet Management at 2.24 and 2.90. The delegated authority to the Under Secretary for RD and the Administrator of RBS to implement the biobased market program includes the authority to administer and amend the regulations related to this program currently located at 7 CFR parts 3201 and 3202.

Section 9011 of the Act establishes a carbon utilization and biogas education program. This rule adds a delegation of authority for Administrator of NIFA, through the Under Secretary for REE, to administer this new competitive grant program (7 U.S.C. 8115).

Section 10102 of the Act establishes a new Local Agriculture Market Program authority that combines the Farmers' Market and Local Food Promotion Program formerly located at 7 U.S.C. 3005 and the value-added agricultural product market development grants formerly located at 7 U.S.C. 1632a(b). The delegations of authority are revised to reflect that the Local Agriculture Market Program at 7 U.S.C. 1627c will be administered on a coordinated basis by the Under Secretary for RD, Administrator, RBS, Under Secretary for MRP, and Administrator, AMS.

The delegations of authority of the Chief Economist (2.29) and the Director of the Office of Pest Management Policy (OPMP) (2.75) are revised to include the new authority at Section 10103 of the Act to conduct a multiple crop and pesticide use survey.

Section 12105 of the Act amended the authority for the National Aquatic Health Plan under section 11013 of the Food, Conservation, and Energy Act of 2008 (7 U.S.C. 8322). This rule amends the delegations of the Under Secretary of MRP and the Administrator of the Animal and Plant Health Inspection Service (APHIS) (2.80) to include this cooperative agreement authority.

Title XII provides two new authorities that are delegated to the Under Secretary for MRP and the Administrator of AMS: Section 12108 (Regional Cattle and Carcass Grading Correlation and Training Centers) and section 12513 (Dairy Business Innovation Initiatives).

Sections 12201 and 12202 of the Act move the authority for the Office of Homeland Security (OHS) from section 14111 of the Food, Conservation, and Energy Act of 2008 (7 U.S.C. 8911) to subtitle A of the Department of Agriculture Reorganization Act of 1994 (7 U.S.C. 6922) and update the statutory authorities of OHS, including adding an agriculture and food threat awareness partnership program. OHS remains organizationally located in Departmental Administration, and this rule revises the delegations of the Assistant Secretary for Administration (ASA) at 2.24 and the Director, OHS at 2.95 to reflect the updated authorities in section 12202 of the Act.

Section 12203 of the Act (7 U.S.C. 8914) provides authority for responding to plant and animal diseases or pests of concern. This rule delegates authority under 12203(b) to the Under Secretary for MRP and the APHIS Administrator; delegates authority under 12203(c) to the Under Secretary for REE and the NIFA Administrator; and delegates authority under 12203(d) to the Under Secretary for REE and the ARS Administrator.

Section 12301 of the Act moves the authority for the beginning farmer and rancher development program established under section 7405 of the Farm Security and Rural Investment Act of 2002 (7 U.S.C. 3319f) to section 2501 of the Food, Agriculture, Conservation, and Trade Act of 1990 (7 U.S.C. 2279) under the newly established “Farmer Opportunities Training and Outreach” subheading. This rule revises the delegations of the Under Secretary for REE and the NIFA Administrator to update the citation for the beginning farmer and rancher development program, which continues to be administered by NIFA. This rule also revises the delegations of authority for the Director of OPPE and the Director of the Office of Advocacy and Outreach (OAO) to include updated citations for the 2501 programs (7 U.S.C. 2279).

Section 12302 of the Act amends the Department of Agriculture Reorganization Act of 1994 to include an Office of Urban Agriculture and Innovative Production (7 U.S.C. 6923). The Secretary established this office in the FPAC mission area, under the Chief of NRCS, in Secretary's Memorandum 1076-030. This rule revises the delegations of the Under Secretary for FPAC and the Chief, NRCS to include the authority to carry out the duties of this office.

This rule revises the delegations of authority for the Director of OTR to include the authority to oversee the Tribal Advisory Committee established under Section 12303 of the Act as an amendment to section 309 of the Department of Agriculture Reorganization Act of 1994.

Title XII of the Act authorized the Secretary to create five new coordinator positions in the Department, which the Secretary established in SM 1076-030. This rule revises the delegations of authority to include the authority to carry out the duties of these positions as follows: The Under Secretary for FPAC and the Administrator, FSA (Section 12304, Beginning Farmer and Rancher Coordinator); the Director, OPPE (Section 12305, Agricultural Youth Coordinator); the Under Secretary for RD (Section 12409, Rural Health Liaison); the Chief Economist (Section 12504, Food Loss and Waste Reduction Liaison); and the Under Secretary for FNCS and the Administrator, FNS (Section 12614, Food Access Liaison).

Section 12403(a) of the Act requires the Secretary to conduct civil rights impact analyses in accordance with Departmental Regulation 4300-004 issued on October 17, 2016, with respect to the Department's employment, federally conducted programs and activities, and federally assisted programs and activities. This authority is delegated to the Assistant Secretary for Civil Rights at 2.25.

Section 12411 of the Act amends section 251 of the Department of Agriculture Reorganization Act of 1994 to update the name of the Research, Education, and Extension Office to the Office of the Chief Scientist, along with other amendments and corrections. This rule revises the delegations of authority to the Director, Office of the Chief Scientist at 2.69 to reflect the updated title.

This rule revises the delegations of authority for the Under Secretary of RD at 2.17 and the Administrator of the Rural Housing Service (RHS) at 2.49 to include the new authority of the Secretary at Section 12502 of the Act, in consultation with the Department of Justice, Secretary of Housing and Urban Development, and Secretary of Health and Human Services, to administer the emergency and transitional pet shelter and housing assistance grant program (34 U.S.C. 20127).

Section 12508 of the Act establishes a program for recognizing “century farms,” defined as farms that have been in continuous operation and owned by the same family for at least 100 years. This authority is delegated to the Under Secretary of FPAC and, at 2.41, to the Chief Operating Officer of the FPAC Business Center.

Section 12510 of the Act codifies the Tribal Promise Zones program. This authority is delegated to the Director of OPPE at 2.38.

Section 12511 of the Act establishes a Task Force for Reviewing the Connectivity and Technology Needs of Precision Agriculture in the United States. The Secretary's authority under this section is delegated to the Under Secretary for RD and the Administrator of RUS.

This rule revises the delegations of authority to the Chief Economist at 2.29 and the Chairman of the World Agricultural Outlook Board at 2.72 to include the Secretary's authority under Section 12512 of the Act related to improving the accuracy of the U.S. Drought Monitor.

This rule also revises the delegations of authority to the Under Secretary of MRP and the Administrator, AMS to include the Secretary's authority under Section 12513 of the Act to carry out dairy business innovation initiatives.

This rule revises the existing delegations of the Under Secretary for NRE and the Chief of the Forest Service to administer the Public Lands Corps program to include the new direct hire authority of the Secretary under Section 12518 of the Act (16 U.S.C. 1726b).

Section 12519 of the Act authorizes the Secretary to noncompetitively convert to an appointment in the competitive service a recent graduate or student who is a United States citizen and has been awarded and successfully completed a scholarship program granted to the individual by the Department through the 1890 National Scholars Program or the 1994 Tribal Scholars Program. This authority is delegated to the ASA at 2.24.

Section 12520 of the Act authorizes the Department to employ law enforcement officers or special agents to carry out protection operations for the Secretary, Deputy Secretary, and other specified individuals, and authorizes the law enforcement officers or special agents to carry firearms and make arrests without a warrant for any offense against the United States committed in the presence of the law enforcement officer or special agent, among other duties. The Secretary delegates the authority to administer these protective detail activities to the Chief Security Director of the newly established Office of Safety, Security and Protection (OSSP) at 2.94 through the ASA.

The rule revises the delegations of authority of the Under Secretary for MRP and the APHIS Administrator to include the authority at Section 12601 of the Act relating to baiting of migratory game birds.

Section 12605 of the Act establishes a Citrus Trust Fund, funded by transfers from the Commodity Credit Corporation, to carry out the Emergency Citrus Disease Research and Extension Program under section 412(j) of the Agricultural Research, Extension, and Education Reform Act of 1998 (7 U.S.C. 7632(j). The authority to administer the Citrus Trust Fund comes within the scope of the existing delegation to the Under Secretary of REE and the Administrator of NIFA to administer the Specialty Crop Research Initiative, so no revisions to the published delegations are needed.

Section 12607(b) of the Act authorizes the Secretary to collect and report data and analysis on farmland ownership, tenure, transition, and entry of beginning farmers and ranchers and socially disadvantaged farmers and ranchers. This authority is delegated to the Administrator of the National Agricultural Statistics Service (NASS) through the Under Secretary for REE.

Finally, Section 12612 of the Act authorizes the Secretary to carry out a national agriculture imagery program, and Section 12615 authorizes the Secretary to provide farm loan numbers for farm operators on “heirs property,” as defined by the Uniform Partition of Heirs Property Act. This rule revises the delegations to reflect that these authorities have been delegated to the Under Secretary for FPAC and the FSA Administrator.

C. Office of Safety, Security, and Protection

On September 13, 2019, the Secretary established a new Office of Safety, Security, and Protection (OSSP) within Departmental Administration. See SM 1076-032 available at https://www.ocio.usda.gov/document/sm1076-032-office-safety-security-and-protection-091319. OSSP is headed by a Chief Security Director who reports to the ASA. This rule adds a new section of delegations by the ASA to the Chief Security Director, OSSP at 2.94. In addition to the delegation for the protective services detail authorized by Section 12520 of the Act, described above, this rule also reflects that the following delegations of authority have been transferred to the Chief Security Director, OSSP: The delegations of the ASA previously delegated to the Director of OHS at 2.95 concerning the protection of physical facilities, and the delegations of the ASA previously delegated to the Director of the Office of Operations at 2.96 concerning maintenance of the physical security program at USDA facilities in the National Capital Region.

D. Realignment of the Office of the Chief Information Officer and the Departmental Freedom of Information Act (FOIA) Office

In September 2019, the Secretary realigned the Office of the Chief Information Officer (OCIO) from its previous organizational location in the Departmental Administration mission area, under the supervision of the ASA, to report directly to the Office of the Secretary. See SM 1076-034 available at https://www.ocio.usda.gov/document/secretarys-memorandum-1076-034. The Secretary also transferred the Departmental Freedom of Information Act (FOIA) Office from OCIO to the Office of the General Counsel (OGC) and designated the General Counsel as the Chief FOIA Officer. See SM 1076-033 available at https://www.ocio.usda.gov/document/secretarys-memorandum-1076-033.

This rule accordingly reassigns the delegations of authority related to FOIA previously delegated to the ASA in 2.24 to the General Counsel in 2.31. The delegations of authority to the ASA related to information technology and information resources are removed. The delegations of authority to the Chief Information Officer, previously located at 2.89 under Subpart P—Delegations of Authority by the Assistant Secretary for Administration, are now located at 2.32 under Subpart D—Delegations of Authority to Other General Officers and Agency Heads.

E. Office of Customer Experience

In February 2018, the Secretary established an Office of Customer Experience in the Departmental Administration mission area to provide coordination for efforts to improve customer service across the Department. See SM 1076-022 available at https://www.ocio.usda.gov/document/secretarys-memorandum-1076-022. This authority was extended in Secretary's Memorandum 1076-030 on July 1, 2019. This rule adds a new delegation for the ASA to coordinate efforts to improve customer service to reflect that the Office of Customer Experience is under the purview of Departmental Administration.

F. Miscellaneous Revisions

In 2017, the Office of the Law Revision Council editorially reclassified several sections of the U.S. Code formerly located at 7 U.S.C. 450a et seq. to other locations in Title 7 of the U.S. Code. This rule revises citations throughout Part 2 to reflect the current U.S. Code citations for these sections, to correct other outdated or mistaken citations, and to delete obsolete authorities. Due to the number of updates to the statutory citations for authorities delegated to the Forest Service and the need to renumber paragraphs, this rule revises the full text of the delegations of the Under Secretary for NRE at 2.20(a)(2) and the Chief of the Forest Service at 2.60(a) rather than providing individual amendments.

Classification

This rule relates to internal agency management. Accordingly, pursuant to 5 U.S.C. 553, notice of proposed rulemaking and opportunity for comment are not required, and this rule may be made effective less than 30 days after publication in the Federal Register. This rule also is exempt from the provisions of Executive Orders 12866 and 13771. This action is not a rule as defined by the Regulatory Flexibility Act, as amended by the Small Business Regulatory Enforcement Fairness Act of 1996, 5 U.S.C. 601 et seq., or the Congressional Review Act, 5 U.S.C. 801 et seq., and thus is exempt from the provisions of those acts. This rule contains no information collection or recordkeeping requirements under the Paperwork Reduction Act of 1995 (44 U.S.C. 3501 et seq.).

List of Subjects in 7 CFR Part 2

Authority delegations (Government agencies).

Accordingly, as discussed in the preamble, 7 CFR part 2 is amended as follows:

PART 2—DELEGATIONS OF AUTHORITY BY THE SECRETARY OF AGRICULTURE AND GENERAL OFFICERS OF THE DEPARTMENT

1. The authority citation for part 2 continues to read as follows:

Authority: 7 U.S.C. 6912(a)(1); 5 U.S.C. 301; Reorganization Plan No. 2 of 1953, 3 CFR 1949-1953 Comp., p. 1024.

2. In part 2, revise all references to “Assistant to the Secretary for Rural Development” to read “Under Secretary for Rural Development”.

Subpart A—General

3. Section 2.4 is revised to read as follows:

§ 2.4 General officers.

The work of the Department is under the supervision and control of the Secretary who is assisted by the following general officers: The Deputy Secretary, the Under Secretary for Farm Production and Conservation; the Under Secretary for Food, Nutrition, and Consumer Services, the Under Secretary for Food Safety; the Under Secretary for Marketing and Regulatory Programs; the Under Secretary for Natural Resources and Environment; the Under Secretary for Research, Education, and Economics; the Under Secretary for Rural Development; the Under Secretary for Trade and Foreign Agricultural Affairs; the Assistant Secretary for Administration; the Assistant Secretary for Civil Rights; the Assistant Secretary for Congressional Relations; the Chief Economist; the Chief Financial Officer; the Chief Information Officer; the General Counsel; the Inspector General; the Judicial Officer; the Director, National Appeals Division; the Director, Office of Budget and Program Analysis; the Director, Office of Communications; the Director, Office of Partnerships and Public Engagement; the Director, Office of Tribal Relations; and the Director, Office of Small and Disadvantaged Business Utilization.

Subpart C—Delegations of Authority to the Deputy Secretary, Under Secretaries, and Assistant Secretaries

4. Amend § 2.16 by:

a. In paragraph (a)(1)(ix), removing the term “7 U.S.C. 450j et seq.” and adding, in its place, the term “7 U.S.C. 4551 et seq.”, and in paragraph (a)(1)(xviii), removing the term “16 U.S.C. 1231 et seq.” and adding, in its place, the term “16 U.S.C. 3831 et seq.”;

b. Revising paragraph (a)(1)(xxxvi) introductory text;

c. Adding paragraph (a)(1)(xxxix);

d. Revising paragraph (a)(3)(iii) introductory text;

e. Revising paragraphs (a)(3)(iv)(A) and (a)(3)(v) and (xiii);

f. Adding paragraphs (a)(3)(xviii), (xxvi), and (xxvii) and (a)(4)(x);

g. Revising paragraph (a)(7)(xiv); and

h. Adding paragraph (a)(11).

The revisions and additions to read as follows:

§ 2.16 Under Secretary for Farm Production and Conservation.

(a) * * *

(1) * * *

(xxxvi) Administer the following provisions of the Agricultural Act of 2014, Public Law 113-79, as amended:

* * * * *

(xxxix) Administer the following provisions of the Agriculture Improvement Act of 2018, Public Law 116-334:

(A) Section 5413 relating to reporting on farm loans (7 U.S.C. 2008x).

(B) Section 12304 relating to the National Beginning Farmer and Rancher Coordinator (7 U.S.C. 6934a).

(C) Section 12612 relating to a national agriculture imagery program (7 U.S.C. 2204j).

(D) Section 12615 relating to the eligibility for farm operators on heirs' property to obtain a farm loan number (7 U.S.C. 2266b).

* * * * *

(3) * * *

(iii) Administer the basic program of soil and water conservation under Public Law 74-46, and related laws (16 U.S.C. 590a-f, q, q-1; 42 U.S.C. 3271-3274; 7 U.S.C. 2201), including:

* * * * *

(iv) * * *

(A) The eleven authorized watershed projects authorized under the Flood Control Act of 1944 (Pub. L. 78-534);

* * * * *

(v) Administer the Abandoned Mine Reclamation Program for Rural Lands and other responsibilities assigned under the Surface Mining Control and Reclamation Act of 1977 (30 U.S.C. 1201 et seq.), except those responsibilities assigned to the Under Secretary for Natural Resources and Environment.

* * * * *

(xiii) Except as otherwise delegated, administer natural resources conservation authorities, including authorities related to programs of the Commodity Credit Corporation that provide assistance with respect to natural resources conservation, under Title XII of the Food Security Act of 1985 (the Act), as amended (16 U.S.C. 3801 et seq.), including the following:

(A) Technical assistance related to the conservation of highly erodible lands and wetlands pursuant to sections 1211-1224 of the Act (16 U.S.C. 3811-3824).

(B) Technical assistance related to the Conservation Reserve Program authorized by sections 1231-1235 of the Act (16 U.S.C. 3831-3835).

(C) The Wetlands Reserve Program and the Emergency Wetlands Reserve Program authorized by sections 1237-1237F of the Act (16 U.S.C. 3837-3837f) prior to February 7, 2014, the transition authority under section 2703 of the Agricultural Act of 2014, and the Emergency Supplemental Appropriations for Relief from the Major, Widespread Flooding in the Midwest Act (Pub. L. 103-75).

(D) The Conservation Security Program authorized by sections 1238-1238C of the Act (16 U.S.C. 3838-3838c) and the Conservation Stewardship Program authorized by sections 1240I-1240L-1 (16 U.S.C. 3839aa-21—3839aa-25).

(E) The Farmland Protection Program authorized by sections 1238H-1238I of the Act (16 U.S.C. 3838h-3838i) prior to February 7, 2014, and the transition authority under section 2704 of the Agricultural Act of 2014.

(F) The Farm Viability Program authorized by section 1238J of the Act (16 U.S.C. 3838j) prior to February 7, 2014, and the transition authority under section 2704 of the Agricultural Act of 2014.

(G) The Environmental Quality Incentives Program authorized by sections 1240-1240H of the Act (16 U.S.C. 3839aa-3839aa-8), the Agricultural Water Enhancement Program authorized by section 1240H of the Act (16 U.S.C. 3839aa-9) prior to February 7, 2014, and section 2706 of the Agricultural Act of 2014.

(H) The conservation of private grazing lands authorized by section 1240M of the Act (16 U.S.C. 3839bb).

(I) The Wildlife Habitat Incentives Program authorized by section 1240N of the Act (16 U.S.C. 3839bb-1) prior to February 7, 2014 and Section 2707 of the Agricultural Act of 2014.

(J) The program for soil erosion and sedimentation control in the Great Lakes basin authorized by section 1240P of the Act (16 U.S.C. 3839bb-3) prior to February 7, 2014, and section 2708 of the Agricultural Act of 2014.

(K) The Chesapeake Bay Watershed Program authorized by section 1240Q of the Act (16 U.S.C. 3839bb-4) prior to February 7, 2014, and section 2709 of the Agricultural Act of 2014.

(L) The delivery of technical assistance under section 1242 of the Act (16 U.S.C. 3842), including the approval of persons or entities outside of USDA to provide technical services.

(M) The authority for partnerships and cooperation provided by section 1243 of the Act (16 U.S.C. 3843) prior to February 7, 2014, and section 2710 of the Agricultural Act of 2014.

(N) The incentives for certain farmers and ranchers and Indian tribes and the protection of certain proprietary information related to natural resources conservation programs as provided by section 1244 of the Act (16 U.S.C. 3844).

(O) The Agriculture Conservation Experienced Services Program authorized by section 1252 of the Act (16 U.S.C. 3851).

(P) The authority under sections 1261-1262 of the Act (16 U.S.C. 3861-3862) to establish and utilize State Technical Committees.

(Q) The Grassland Reserve Program under sections 1238N-1238Q of the Act (16 U.S.C. 3838n-3838q) prior to February 7, 2014, and section 2705 of the Agricultural Act of 2014.

(R) The authority in section 1241 of the Act (16 U.S.C. 3841) to accept and use voluntary contributions of non-Federal funds in support of natural resources conservation programs under subtitle D of title XII of the Act with respect to authorities delegated to the Under Secretary for Farm Production and Conservation.

(S) The Agricultural Conservation Easement Program authorized by sections 1265-1265D of the Act (16 U.S.C. 3865-3865d).

(T) The Regional Conservation Partnership Program authorized by sections 1271-1271F of the Act (16 U.S.C. 3871-3871f).

(U) The Voluntary Public Access and Habitat Incentive Program authorized by section 1240R of the Act (16 U.S.C. 3839bb-5).

(V) A wetlands mitigation banking program authorized by section 1222(k) of the Act (16 U.S.C. 3822(k)).

* * * * *

(xviii) Enter into cooperative agreements, which may provide for the acquisition of goods or services, including personal services, as authorized by Public Law 106-387 (7 U.S.C. 6962a).

* * * * *

(xxvi) Administer the state and private forest landscape-scale restoration program (16 U.S.C. 2109a).

(xxvii) Administer the following provisions of the Agriculture Improvement Act of 2018 (Pub. L. 116-334):

(A) Section 1704 (7 U.S.C. 1308-3a), authorizing waivers of the adjusted gross income limitation.

(B) In consultation with the Director of the U.S. Fish and Wildlife Service, Section 2707 (16 U.S.C. 1531 note), relating to wildlife management.

(C) In coordination with the Under Secretary for Marketing and Regulatory Programs, Section 2408 (7 U.S.C. 8351 note), relating to the Feral Swine Eradication and Control Pilot Program.

(D) Section 8628, relating to the purchase of Natural Resources Conservation Service property in Riverside County, California.

(E) Section 12302, relating to the Office of Urban Agriculture and Innovative Production.

* * * * *

(4) * * *

(x) Coordinate between agencies of the Department on the type and format of data received under the noninsured crop disaster assistance program as authorized by Sec. 196 of the Federal Agriculture Improvement and Reform Act of 1996, (Pub. L. 104-127, as amended) (7 U.S.C. 7333).

* * * * *

(7) * * *

(xiv) Section 122 of the Act (42 U.S.C. 9622), with respect to settlements, but excluding section 122(b)(1) of the Act.

* * * * *

(11) Administer a Century Farms Program as authorized by section 12508 of the Agriculture Improvement Act of 2018 (7 U.S.C. 2266a).

* * * * *

5. Amend § 2.17 by:

a. Adding paragraphs (a)(20)(x) and (xv);

b. Revising paragraphs (a)(21)(xxi) and (xxii); and

c. Adding paragraph (a)(21)(xxviii) and (xxix), (a)(22)(iii), (a)(28), and (a)(32).

The revisions and additions read as follows:

§ 2.17 Under Secretary for Rural Development.

(a) * * *

(20) * * *

(x) Consult with the Assistant Secretary of Commerce for Communications and Information to assist in the verification of eligibility of the broadband loan and grant programs of the Department of Agriculture (7 U.S.C. 950bb-6).

* * * * *

(xv) In coordination with the Federal Communications Commission, administer Section 12511 of the Agriculture Improvement Act of 2018 (Pub. L. 115-334) relating to the precision agriculture connectivity task force.

(21) * * *

(xxi) In coordination with the Under Secretary of Marketing and Regulatory Programs, administer the value-added producer grants program and farmers' markets and local food promotion program (7 U.S.C. 1627c(d)(5)-(6)).

(xxii) Administer the Agriculture Innovation Center Demonstration program (7 U.S.C. 1632b).

* * * * *

(xxviii) Implementation of a program for the Federal procurement of biobased products and of a voluntary “USDA Certified Biobased product” labeling program (7 U.S.C. 8102).

(xxix) Entering into cooperative agreements to further research programs in the food and agricultural sciences, related to establishing and implementing Federal biobased procurement and voluntary biobased labeling programs (7 U.S.C. 3318).

(22) * * *

(iii) In consultation with the Department of Justice, Secretary of Housing and Urban Development, and Secretary of Health and Human Services, administer the emergency and transitional pet shelter and housing assistance grant program (34 U.S.C. 20127).

* * * * *

(28) In coordination with the Office of Tribal Relations, provide technical assistance to improve access by Tribal entities to rural development programs funded by the Department of Agriculture through available cooperative agreement authorities (7 U.S.C. 2671).

* * * * *

(32) Oversee the Rural Health Liaison (7 U.S.C. 6946).

* * * * *

6. Amend § 2.19 by revising paragraph (a)(1)(i)(A), adding paragraphs (a)(1)(i)(M) and (N), and revising paragraph (a)(1)(ii)(L) to read as follows:

§ 2.19 Under Secretary for Food, Nutrition, and Consumer Services.

(a) * * *

(1) * * *

(i) * * *

(A) The Food and Nutrition Act of 2008, as amended (7 U.S.C. 2011 et seq.), except for section 25, regarding assistance for community food projects.

* * * * *

(M) Section 4208 of the Agriculture Improvement Act of 2018 (7 U.S.C. 2026a).

(N) Section 12614 of the Agriculture Improvement Act of 2018 (7 U.S.C. 6925).

(ii) * * *

(L) Emergency Food Assistance Act of 1983, as amended (7 U.S.C. 7501 et seq.);

* * * * *

7. Amend § 2.20 by revising paragraph (a)(2) to read as follows:

§ 2.20 Under Secretary for Natural Resources and Environment.

(a) * * *

(2) Related to forestry. (i) Provide national leadership in forestry. (As used here and elsewhere in this section, the term “forestry” encompasses renewable and nonrenewable resources of forests, including lands governed by the Alaska National Interest Lands Conservation Act, forest-related rangeland, grassland, brushland, woodland, and alpine areas including but not limited to recreation, range, timber, minerals, watershed, wildlife and fish; natural scenic, scientific, cultural, and historic values of forests and related lands; and derivative values such as economic strength and social well-being).

(ii) Protect, manage, and administer the national forests, national forest purchase units, national grasslands, and other lands and interests in lands administered by the Forest Service, which collectively are designated as the National Forest System.

(iii) Acquire, dispose of, and lease lands and interests in lands as may be authorized for the protection, management, and administration of the National Forest System, including the authority to approve acquisition of land under the Weeks Act of March 1, 1911, as amended (16 U.S.C. 521), and special forest receipts acts, as follows: (Pub. L. 337, 74th Cong., 49 Stat. 866, as amended by Pub. L. 310, 78th Cong., 58 Stat. 227; Pub. L. 505, 75th Cong., 52 Stat. 347, as amended by Pub. L. 310, 78th Cong., 58 Stat. 227; Pub. L. 634, 75th Cong., 52 Stat. 699, as amended by Pub. L. 310, 78th Cong., 58 Stat. 227; Pub. L. 748, 75th Cong., 52 Stat. 1205, as amended by Pub. L. 310, 78th Cong., 58 Stat. 227; Pub. L. 427, 76th Cong., 54 Stat. 46; Pub. L. 589, 76th Cong., 54 Stat. 297; Pub. L. 591, 76th Cong., 54 Stat. 299; Pub. L. 637, 76th Cong., 54 Stat. 402; Pub. L. 781, 84th Cong., 70 Stat. 632).

(iv) As necessary for administrative purposes, divide into and designate as national forests any lands of 3,000 acres or more which are acquired under or subject to the Weeks Act of March 1, 1911, as amended, and which are contiguous to existing national forest boundaries established under the authority of the Weeks Act.

(v) Plan and administer wildlife and fish conservation rehabilitation and habitat management programs on National Forest System lands, pursuant to 16 U.S.C. 670g, 670h, and 670o.

(vi) For the purposes of the National Forest System Drug Control Act of 1986 (16 U.S.C. 559b-559g), specifically designate certain specially trained officers and employees of the Forest Service, not exceeding 500, to have authority in the performance of their duties within the boundaries of the National Forest System:

(A) To carry firearms;

(B) To enforce and conduct investigations of violations of section 401 of the Controlled Substance Act (21 U.S.C. 841) and other criminal violations relating to marijuana and other controlled substances that are manufactured, distributed, or dispensed on National Forest System lands;

(C) To make arrests with a warrant or process for misdemeanor violations, or without a warrant for violations of such misdemeanors that any such officer or employee has probable cause to believe are being committed in that employee's presence or view, or for a felony with a warrant or without a warrant if that employee has probable cause to believe that the person being arrested has committed or is committing such a felony;

(D) To serve warrants and other process issued by a court or officer of competent jurisdiction;

(E) To search, with or without a warrant or process, any person, place, or conveyance according to Federal law or rule of law; and

(F) To seize, with or without warrant or process, any evidentiary item according to Federal law or rule of law.

(vii) Authorize the Forest Service to cooperate with the law enforcement officials of any Federal agency, State, or political subdivision, in the investigation of violations of, and enforcement of, section 401 of the Controlled Substances Act (21 U.S.C. 841), other laws and regulations relating to marijuana and other controlled substances, and State drug control laws or ordinances, within the boundaries of the National Forest System.

(viii) Administer programs under section 23 of the Federal Highway Act (23 U.S.C. 101(a), 120(f), 125(a)-(c), 138, 202(a)-(b), 203, 204(a)-(c), 205(a)-(d), 211, 317, 402(a)).

(ix) Exercise the administrative appeal review functions of the Secretary of Agriculture for decisions of the Chief of the Forest Service pursuant to 36 CFR parts 214, 218, and 219.

(x) Conduct, support, and cooperate in investigations, experiments, tests, and other activities deemed necessary to obtain, analyze, develop, demonstrate, and disseminate scientific information about protecting, managing, and utilizing forest and rangeland renewable resources in rural, suburban, and urban areas in the United States and foreign countries. The activities conducted, supported, or cooperated in shall include, but not be limited to: Renewable resource management research, renewable resource environmental research; renewable resource protection research; renewable resource utilization research, and renewable resource assessment research (16 U.S.C. 1641-1647).

(xi) Use authorities and means available to disseminate the knowledge and technology developed from forestry research (16 U.S.C. 1645).

(xii) Coordinate activities with other agencies in USDA, other Federal and State agencies, forestry schools, and private entities and individuals (16 U.S.C. 1643).

(xiii) Enter into contracts, grants, and cooperative agreements for the support of scientific research in forestry activities (7 U.S.C. 3105, 1624; 16 U.S.C. 582a-8, 1643-1645, 1649).

(xiv) Enter into cooperative research and development agreements with industry, universities, and others; institute a cash award program to reward scientific, engineering, and technical personnel; award royalties to inventors; and retain and use royalty income (15 U.S.C. 3710a-3710c).

(xv) Enter into contracts, grants, or cooperative agreements to further research, extension, or teaching programs in the food and agricultural sciences (7 U.S.C. 3152, 3318).

(xvi) Enter into cost-reimbursable agreements relating to agricultural research, extension, or teaching activities (7 U.S.C. 3319a).

(xvii) Administer programs of cooperative forestry assistance in the protection, conservation, and multiple resource management of forests and related resources in both rural and urban areas and forest lands in foreign countries (16 U.S.C. 2101-2114).

(xviii) Provide assistance to States and other units of government in forest resources planning and forestry rural revitalization (7 U.S.C. 6601, 6611-6617; 16 U.S.C. 2107).

(xix) Conduct a program of technology implementation for State forestry personnel, private forest landowners and managers, vendors, forest operators, public agencies, and individuals (16 U.S.C. 2107).

(xx) Administer Rural Fire Protection and Control Programs (16 U.S.C. 2106c).

(xxi) Provide technical assistance on forestry technology or the implementation of the Conservation Reserve and Softwood Timber Programs authorized in sections 1231-1244 and 1254 of the Food Security Act of 1985 (16 U.S.C. 3831-3844; 7 U.S.C. 1981 note).

(xxii) Administer forest insect, disease, and other pest management programs (16 U.S.C. 2104).

(xxiii) Exercise the custodial functions of the Secretary for lands and interests in lands under lease or contract of sale to States and local agencies pursuant to title III of the Bankhead-Jones Farm Tenant Act and administer reserved and reversionary interests in lands conveyed under that Act (7 U.S.C. 1010-1013a).

(xxiv) Under such general program criteria and procedures as may be established by the Natural Resources Conservation Service:

(A) Administer the forestry aspects of the programs listed in paragraphs (a)(2)(xxiii)(A)(1) through (3) of this section on the National Forest System, rangelands with national forest boundaries, adjacent rangelands which are administered under formal agreement, and other forest lands;

(1) The cooperative river basin surveys and investigations program (16 U.S.C. 1006);

(2) The Eleven Authorized Watershed Improvement Programs and Emergency Flood Prevention Measures Program under the Flood Control Act of 1944 (Pub. L. 78-534); and

(3) The Small Watershed Protection Program under the Pilot Watershed Protection and Watershed Protection and Flood Prevention Acts (7 U.S.C. 701a-h; 16 U.S.C. 1001-1009); and

(B) Exercise responsibility in connection with the forestry aspects of the Resource Conservation and Development Program authorized by title III of the Bankhead-Jones Farm Tenant Act (7 U.S.C. 1011(e)).

(xxv) Provide assistance to the Farm Service Agency in connection with the Agricultural Conservation Program, the Naval Stores Conservation Program, and the Cropland Conversion Program (16 U.S.C. 590g-q).

(xxvi) Provide assistance to the Rural Housing Service in connection with grants and loans under authority of section 303 of the Consolidated Farm and Rural Development Act, 7 U.S.C. 1923.

(xxvii) Coordinate mapping work of USDA including:

(A) Clearing mapping projects to prevent duplication;

(B) Keeping a record of mapping done by USDA agencies;

(C) Preparing and submitting required USDA reports;

(D) Serving as liaison on mapping with the Office of Management and Budget, Department of Interior, and other departments and establishments;

(E) Promoting interchange of technical mapping information, including techniques which may reduce costs or improve quality; and

(F) Maintaining the mapping records formerly maintained by the Office of Operations.

(xxviii) Administer the radio frequency licensing work of USDA, including:

(A) Representing USDA on the Interdepartmental Radio Advisory Committee and its Frequency Assignment Subcommittee of the National Telecommunications and Information Administration, Department of Commerce;

(B) Establishing policies, standards, and procedures for allotting and assigning frequencies within USDA and for obtaining effective utilization of them;

(C) Providing licensing action necessary to assign radio frequencies for use by the agencies of USDA and maintenance of the records necessary in connection therewith;

(D) Providing inspection of USDA's radio operations to ensure compliance with national and international regulations and policies for radio frequency use; and

(xxix) Represent USDA in all matters relating to responsibilities and authorities under the Federal Power Act (16 U.S.C. 791a-823).

(xxx) Administer the Youth Conservation Corps Act (16 U.S.C. 1701-1706) for USDA.

(xxxi) Establish and operate the Job Corps Civilian Conservation Centers on National Forest System lands as authorized by title I, sections 106 and 107 of the Economic Opportunity Act of 1964 (42 U.S.C. 2716), in accordance with the terms of an agreement dated May 11, 1967, between the Secretary of Agriculture and the Secretary of Labor; and administration of other cooperative manpower training and work experience programs where the Forest Service serves as host or prime sponsor with other Departments of Federal, State, or local governments.

(xxxii) Administer the Volunteers in the National Forests Act of 1972 (16 U.S.C. 558a-558d, 558a note).

(xxxiii) Exercise the functions of the Secretary of Agriculture authorized in the Alaska National Interest Lands Conservation Act (16 U.S.C. 3101-3215).

(xxxiv) Exercise the functions of the Secretary as authorized in the Wild and Scenic Rivers Act (16 U.S.C. 1271-1287).

(xxxv) Jointly administer gypsy moth eradication activities with the Assistant Secretary for Marketing and Regulatory Programs, under the authority of section 102 of the Organic Act of 1944, as amended; and the Act of April 6, 1937, as amended (7 U.S.C. 7759, 148, 148a-148e); and the Talmadge Aiken Act (7 U.S.C. 1633), by assuming primary responsibility for treating isolated gypsy moth infestations on Federal lands, and on State and private lands contiguous to infested Federal lands, and any other infestations over 640 acres on State and private lands.

(xxxvi) Exercise the functions of the Secretary authorized in the Federal Onshore Oil and Gas Leasing Reform Act of 1987 (30 U.S.C. 226 et seq.).

(xxxvii) Administer the Public Lands Corps program (16 U.S.C. 1721 et seq.; 16 U.S.C. 1726b) for USDA consistent with the Department's overall national service program.

(xxxviii) Focusing on countries that could have a substantial impact on global warming, provide assistance that promotes sustainable development and global environmental stability; share technical, managerial, extension, and administrative skills; provide education and training opportunities; engage in scientific exchange; and cooperate with domestic and international organizations that further international programs for the management and protection of forests, rangelands, wildlife, fisheries and related natural resources (16 U.S.C. 4501-4505).

(xxxix) Establish programs with any bureau of the U.S. Department of the Interior (DOI), or with other agencies within USDA, in support of the Service First initiative for the purpose of promoting customer service and efficiency including delegating to employees of DOI and other USDA agencies the authorities of the Forest Service necessary to carry out projects on behalf of USDA (43 U.S.C. 1703).

(xl) At the request of the Director, Homeland Security Staff (Director), designate law enforcement personnel of the Forest Service to assist the Director in providing for the personal security for the Secretary and the Deputy Secretary in the National Forest System.

(xli) Implement the information disclosure authorities of section 1619(b)(3)(A) of the Food, Conservation, and Energy Act of 2008 (7 U.S.C. 8791(b)(3)(A)).

(xlii) Administer a program for providing loans to eligible units of local government to finance the purchase of equipment to monitor, remove, dispose of, and replace infested trees located under their jurisdiction and within the borders of quarantined areas (16 U.S.C. 2104a).

(xliii) [Reserved]

(xliv) Administer the community wood energy program providing grants to develop community wood energy plans, acquire or upgrade community wood energy systems, and establish or expand biomass consumer cooperatives (7 U.S.C. 8113).

(xlv) Conduct activities that assist the Chief Economist in developing guidelines regarding the development of environmental services markets.

(xlvi) Administer the programs authorized by the Healthy Forests Restoration Act of 2003 (16 U.S.C. 6501 et seq.), except for the Healthy Forests Reserve Program authorized in title V of such act (16 U.S.C. 6571-6578).

(xlvii) Administer Good Neighbor contracts and cooperative agreements with a State to carry out forest, rangeland, and watershed restoration services on National Forest System lands (16 U.S.C. 2113a).

(xlviii) Utilize the Agriculture Conservation Experienced Services (ACES) Program (16 U.S.C. 3851) to provide technical services for conservation-related programs and authorities carried out on National Forest System lands (16 U.S.C. 3851a).

(xlix) Enter into reciprocal fire agreements or contracts with domestic entities. Administer reimbursements received for fire suppression (42 U.S.C. 1856-1856e).

(l) Administer the large airtanker and aerial asset lease program (16 U.S.C. 551c).

(li) Provide technical and other assistance with respect to eligibility of forest products for the “USDA Certified Biobased Products” labeling program (7 U.S.C. 8102(g)).

(lii) Cooperate with public or private entities or individuals to perform work on state, county, municipal, or private lands within or near the boundary of National Forest System lands for administration, protection, improvement, reforestation, and other kinds of work the Forest Service is authorized to do on National Forest System lands, and cooperate with public or private entities or individuals to perform the same kinds of work in connection with the use or occupancy of National Forest System lands (16 U.S.C. 572).

(liii) Enter into reciprocal fire agreements with foreign fire organizations. (42 U.S.C. 1856m-1856o).

(liv) Administer the payments to states program (16 U.S.C. 500; 16 U.S.C. 7101-7153); establish, maintain, and appoint members to Resource Advisory Committees (16 U.S.C. 7125).

(lv) Administer the Wood Innovation Grant program (7 U.S.C. 7655d).

* * * * *

8. Amend § 2.21 by:

a. Adding paragraph (a)(1)(iii);

b. Revising paragraph (a)(1)(iv);

c. Adding paragraph (a)(1)(xvii);

d. In paragraph (a)(1)(xviii), removing the term “7 U.S.C. 450a” and adding in its place the term “7 U.S.C. 3318a”; in paragraph (a)(1)(xix), removing the term “7 U.S.C. 450i(e)” and adding in its place the term “7 U.S.C. 3157(e)”; and in paragraph (a)(1)(xx), removing the term “7 U.S.C. 450i(b), (c)” and adding in its place the term “7 U.S.C. 3157(b), (c)”;

e. Adding paragraphs (a)(1)(xxxi), (xlii), (xlv), (lv), (lxiii), (lxvii), (lxxii), (lxxiii), (lxxviii), (lxxxiii), (cxi), and (cxlii);

f. In paragraph (a)(1)(clxxiii), removing the term “7 U.S.C. 3319f” and adding in its place the term “7 U.S.C. 2279(d)”;

g. Adding paragraph (a)(1)(cc); and

h. Revising paragraph (a)(8)(xi).

The revisions to read as follows:

§ 2.21 Under Secretary for Research, Education, and Economics.

(a) * * *

(1) * * *

(iii) Exercise the authorities of the Secretary in administering the Agriculture Advanced Research and Development Authority, including awarding grants and entering into contracts, cooperative agreements, and other transactions (7 U.S.C. 3319k).

(iv) Carry out research, technology development, technology transfer, and demonstration projects related to the economic feasibility of the manufacture and commercialization of natural rubber from plants containing hydrocarbons and other critical agricultural materials from native agricultural crops having strategic and industrial importance (7 U.S.C. 178-178n).

* * * * *

(xvii) Administer a program to make competitive grants to assist in the construction, alteration, acquisition, modernization, renovation, or remodeling of agricultural research facilities (7 U.S.C. 390b).

* * * * *

(xxxi) Prepare an annual report to Congress on disbursements of funds for agricultural research and extension at 1890 and 1862 Institutions for programs under the following authorities: 7 U.S.C. 3221; 7 U.S.C. 3222; 7 U.S.C. 343(b) and (c); and 7 U.S.C. 361a et seq. (7 U.S.C. 2207d).

* * * * *

(xlii) Promote cooperation and coordination between 1862, 1890, 1994, and NLGCA Institutions, HSACUs, and cooperating forestry schools and international partner institutions in developing countries by exercising the Secretary's authority in 7 U.S.C. 3292, including coordinating with the Under Secretary for Trade and Foreign Affairs to place interns from covered institutions in, or in service to benefit, developing countries.

* * * * *

(xlv) Administer a next generation agriculture technology challenge competition to incentivize mobile technology that removes marketplace entry barriers for beginning farmers and ranchers (7 U.S.C. 3158).

* * * * *

(lv) Administer grants to 1890 Institutions, including Tuskegee University, for purposes of awarding scholarships to individuals pursuing careers in the food and agricultural sciences (7 U.S.C. 3222a).

* * * * *

(lxiii) Make competitive grants to land-grant colleges and universities, including 1994 Institutions, to provide identifiable support specifically targeted for Tribal students (7 U.S.C. 3222e).

* * * * *

(lxvii) Administer competitive grants for the acquisition of special purpose scientific research equipment for use in the food and agricultural sciences programs of eligible institutions (7 U.S.C. 3310a).

* * * * *

(lxxii) Establish a National Plant Diagnostic Network to monitor and surveil through diagnostics threats to plant health from diseases or pests of concern in the United States, and establish cooperative agreements with land-grant colleges and universities (7 U.S.C. 8914(c)).

(lxxiii) Establish a National Plant Disease Recovery System to engage in strategic long-range planning to recover from high-consequence plant transboundary diseases (7 U.S.C. 8914(d)).

* * * * *

(lxxviii) In consultation with the Secretary of Energy, administer competitive grants to provide education about carbon utilization and biogas (7 U.S.C. 8115).

* * * * *

(lxxxiii) In consultation with the Urban Agriculture and Innovative Production Advisory Committee, administer competitive grants to support research, education, and extension activities for the purposes of facilitating the development of urban, indoor, and other emerging agricultural production, harvesting, transportation, aggregation, packaging, distribution, and markets (7 U.S.C. 5925g).

* * * * *

(cxi) Administer an experienced services program to obtain technical, professional, and administrative services to support the research, education, and economics mission area of the Department (16 U.S.C. 3851).

* * * * *

(cxlii) In consultation with the Under Secretary for Food, Nutrition, and Consumer Services, administer pilot projects to encourage the use of public-private partnerships committed to addressing food insecurity (7 U.S.C. 2036d).

* * * * *

(cc) Administer a competitive grant program to support the development and expansion of advanced training programs in agricultural biosecurity planning and response for food science professionals and veterinarians (7 U.S.C. 8913).

(8) * * *

(xi) Collect and, not less frequently than once every 3 years report, data and analysis on farmland ownership, tenure, transition, and entry of beginning farmers and ranchers and socially disadvantaged farmers and ranchers (7 U.S.C. 2204i).

* * * * *

9. Amend § 2.22 by:

a. Revising paragraph (a)(1)(viii)(CCC);

b. Adding paragraphs (a)(1)(viii)(MMM), (PPP), and (TTT) and (a)(1)(xvi) and (xvii);

c. Revising paragraphs (a)(2)(ii), (xiv), (xviii), (xxiii), and (xxiv); and

d. Adding paragraphs (a)(2)(xliii) through (xlvi).

The revisions and additions read as follows:

§ 2.22 Under Secretary for Marketing and Regulatory Programs.

(a) * * *

(1) * * *

(viii) * * *

(CCC) Local Agriculture Market Program (7 U.S.C. 1627c), in coordination with the Under Secretary for Rural Development.

* * * * *

(MMM) Section 12108 of the Agriculture Improvement Act of 2018 (7 U.S.C. 1622 note).

* * * * *

(PPP) Section 4206 of the Agriculture Improvement Act of 2018 (7 U.S.C. 7518).

* * * * *

(TTT) Section 12513 of the Agriculture Improvement Act of 2018 (7 U.S.C. 1632d).

* * * * *

(xvi) Administer the Economic Adjustment Assistance for Textile Mills program (7 U.S.C. 9037(c))

(xvii) In coordination with the Under Secretary for Farm Production and Conservation, administer payments under the Special Competitive Provisions for Extra Long Staple Cotton (7 U.S.C. 9038).

(2) * * *

(ii) The Terminal Inspection Act, as amended (7 U.S.C. 7760);

* * * * *

(xiv) Talmadge Aiken Act (7 U.S.C. 1633) with respect to cooperation with States in control and eradication of plant and animal diseases and pests;

* * * * *

(xviii) Section 101(d), Organic Act of 1944 (7 U.S.C. 398);

* * * * *

(xxiii) The Act of March 2, 1931 (7 U.S.C. 8351-8352);

(xxiv) The Act of December 22, 1987 (7 U.S.C. 8353);

* * * * *

(xliii) Section 11013 of the Food, Conservation, and Energy Act of 2008 (7 U.S.C. 8322).

(xliv) In coordination with the Under Secretary for Farm Production and Conservation, Section 2408 relating to the Feral Swine Eradication and Control Pilot Program (7 U.S.C. 8351 note),

(xlv) Section 12203(b) of the Agriculture Improvement Act of 2018 relating to diseases and pests of concern (7 U.S.C. 8914(b)).

(xlvi) Section 12601 of the Agriculture Improvement Act of 2018 relating to baiting of migratory game birds (16 U.S.C. 704 note).

* * * * *

10. Amend § 2.24 by:

a. Removing and reserving paragraph (a)(2);

b. Adding paragraph (a)(4)(xxii);

c. Removing and reserving paragraphs (a)(6)(ii)(J) and (K); and

d. Revising paragraph (a)(8); and

e. Adding paragraph (a)(13)(ii).

The addition and revisions read as follows:

§ 2.24 Assistant Secretary for Administration.

(a) * * *

(4) * * *

(xxii) Exercise the authority to noncompetitively convert to an appointment in the competitive service a recent graduate or student who is a United States citizen and has been awarded and successfully completed a scholarship program granted to the individual by the Department through the 1890 National Scholars Program or the 1994 Tribal Scholars Program, provided the individual meets the requirements for such conversion and meets Office of Personnel Management qualification standards, as determined by the Assistant Secretary for Administration (7 U.S.C. 2279j).

* * * * *

(8) Related to homeland security, personnel and document security, and emergency coordination. (i) Serve as the principal advisor to the Secretary on homeland security, including emergency management and agriculture and food defense;

(ii) Coordinate activities of the Department, including policies, processes, budget needs, and oversight relating to homeland security, including emergency management and agriculture and food defense;

(iii) Act as the primary liaison on behalf of the Department with other Federal departments and agencies in activities relating to homeland security, including emergency management and agriculture and food defense, and provide for interagency coordination and data sharing;

(iv) Coordinate in the Department the gathering of information relevant to early warning and awareness of threats and risks to the food and agriculture critical infrastructure sector; and share that information with, and provide assistance with interpretation and risk characterization of that information to, the intelligence community (as defined in 5 U.S.C. 3003), law enforcement agencies, the Secretary of Defense, the Secretary of Homeland Security, the Secretary of Health and Human Services, and State fusion centers (as defined in section 210A(j) of the Homeland Security Act of 2002 (6 U.S.C. 124h(j));

(v) Liaise with the Director of National Intelligence to assist in the development of periodic assessments and intelligence estimates, or other intelligence products, that support the defense of the food and agriculture critical infrastructure sector;

(vi) Coordinate the conduct, evaluation, and improvement of exercises to identify and eliminate gaps in preparedness and response;

(vii) Produce a Department-wide centralized strategic coordination plan to provide a high-level perspective of the operations of the Department relating to homeland security, including emergency management and agriculture and food defense; and

(viii) Establish and carry out an interagency Agriculture and Food Threat Awareness Partnership Program, including by entering into cooperative agreements or contracts with Federal, State, or local authorities (7 U.S.C. 6922).

(ix) Provide administrative supervision to the unit that grants, denies, or revokes security clearances for USDA employees and contractors.

(x) Administer the Department Emergency Preparedness Program. This includes:

(A) Coordinate the delegations and assignments made to the Department under the Defense Production Act of 1950, 50 U.S.C. App. 2061, et seq.; the Robert T. Stafford Disaster Relief and Emergency Assistance Act, 42 U.S.C. 5121, et seq.; and by Executive Orders 12148, “Federal Emergency Management” (3 CFR, 1979 Comp., p. 412), 12656, “Assignment of Emergency Preparedness Responsibilities” (3 CFR, 1988 Comp., p. 585), and 13603, “National Defense Resources Preparedness” (3 CFR, 2012 Comp., p. 225), or any successor to these Executive Orders, to ensure that the Department has sufficient capabilities to respond to any occurrence, including natural disaster, military attack, technological emergency, or any all hazards incident.

(B) Manage the Department Emergency Operations Center at Headquarters and the Secretary's alternative facilities; provide senior staff with international, national, and regional situational awareness reports; and provide and maintain current information systems technology and National Security Systems to support USDA executive crisis management capability.

(C) Provide facilities and equipment to facilitate inter-agency coordination during emergencies.

(D) Activate the USDA incident management system in accordance with the National Response Framework and the National Incident Management System in the event of a major incident; and provide oversight and coordination of the Department's Emergency Support Functions as outlined in the National Response Framework.

(E) Develop and promulgate policies for the Department regarding emergency preparedness and national security, including matters relating to anti-terrorism and agriculture-related emergency preparedness planning both national and international, and guidance to USDA State and County Emergency Boards.

(F) [Reserved]

(G) Provide representation and liaison for the Department in contacts with other Federal entities and organizations, including the National Security Council, Homeland Security Council, Office of Management and Budget, Department of Homeland Security, Federal Emergency Management Agency, Office of The Director of National Intelligence, and Department of Defense concerning matters of a national security, natural disaster, other emergencies, and agriculture/food-related international civil emergency planning and related activities.

(H) Act as the primary USDA representative for anti-terrorism activities.

(I) [Reserved]

(J) Provide guidance and direction regarding radiological emergency preparedness programs and the implementation of the National Response Framework's Nuclear/Radiological Incident Annex to Departmental staff offices, mission areas, and agencies.

(K) Provide program leadership and coordination for USDA's radiological emergency preparedness requirements with respect to Emergency Management and Assistance (44 CFR parts 350-352).

(L) Represent USDA on the Federal Radiological Preparedness Coordinating Committee (FRPCC) and Regional Assistance Committees (RACs) and assist them in carrying out their functions.

(M) Support USDA in its management of the Department's emergency response program with respect to radiological emergency response activities.

(iii) Administer the Classified Network, Controlled Unclassified Information, and Insider Threat programs of the Department (E.O. 13587; E.O. 13556 and 32 CFR part 2002).

(iv) Serve as the primary point of contact for Government Accountability Office (GAO) and Office of the Inspector General (OIG) audits of USDA homeland security activities.

(v) Coordinate interaction between Department agencies and private sector businesses and industries in emergency planning and public education under Department authorities delegated or assigned under the National Response Framework, National Infrastructure Protection Plan, Defense Production Act of 1950, 50 U.S.C. App. 2061, et seq., and Robert T. Stafford Disaster Relief and Emergency Assistance Act, 42 U.S.C. 5121, et seq.

(vi) Oversee the Department's ability to collect and disseminate information and prepare for an agricultural disease emergency, agroterrorist act, or other threat to agricultural biosecurity, and coordinate such activities among agencies and offices within the Department (7 U.S.C. 8912).

(vii) Carry out protection operations for the Secretary, Deputy Secretary, and other individuals as specified in Section 12520 of the Agriculture Improvement Act of 2018, including by authorizing law enforcement officers or special agents to carry firearms; conduct criminal investigations into potential threats to the security of individuals protected under Section 12520; make arrests without a warrant for any offense against the United States committed in the presence of the law enforcement officer or special agent; perform protective intelligence work, including identifying and mitigating potential threats and conducting advance work to review security matters relating to sites and events; and coordinate with local law enforcement authorities (7 U.S.C. 2279k).

(viii) Promulgate Departmental policies, standards, techniques, and procedures; and represent the Department in maintaining the security of physical facilities and providing security guidance to the Food and Agricultural Sector nationwide.

(A) Lead and coordinate the development and maintenance of a mission critical facility inventory with agency involvement to ensure proper security countermeasures are implemented in the Department's most critical infrastructure.

(B) Provide guidance to USDA agencies in matters of physical security through use of physical security assessments and development of mitigation strategies.

(C) Provide guidance to USDA agencies and the Food and Agricultural Sector in matters of security through use of assessments and development of mitigation strategies.

(D) Represent and act as liaison for the Department in contacts with other Federal security entities and organizations, including the Interagency Security Committee and the Department of Homeland Security.

(E) Provide guidance and direction to ensure physical security and agriculture/food security are fully integrated in USDA's security preparations, which are reported to and coordinated with the White House.

(F) Provide assistance to the USDA agencies in preparation for and during a disaster to identify critical assets and possible alternate storage locations.

(G) Conduct physical security investigations and compliance reviews Department-wide.

(H) Review and provide coordinated technical physical security assessments for all new construction of laboratories, data centers, germplasm repositories, and other mission critical infrastructure during the design phase, and all leased facilities prior to contract award.

(I) Oversee and manage physical security aspects of the Common Identification Card (LincPass) Program to ensure National Institute of Standards and Technology (NIST) and General Services Administration (GSA) compliancy within the National Capital Region and the physical access to USDA facilities.

(J) Provide enterprise connectivity to agency physical access control systems that provide cost leveraging and provisioning/de-provisioning nationwide.

(ix) Provide oversight and coordination of the development and administration of the Department Continuity Program. This includes:

(A) Provide guidance and direction regarding continuity of operations to the Office of the Secretary, Departmental staff offices, mission areas, and agencies.

(B) Represent and act as liaison for the Department in contacts with other Federal entities and organizations concerning matters of assigned continuity program responsibilities.

(C) Oversee Department continuity of operations and emergency relocation facility planning, development, equipping, and preparedness to ensure that resources are in a constant state of readiness.

(x) Provide for the development and administration of a Public Trust program for the safeguarding of national security information:

(A) Direct and administer USDA's public trust program established pursuant to 5 CFR part 731 and Executive Order 13488, “Granting Reciprocity on Excepted Service and Federal Contractor Employee Fitness and Reinvestigating Individuals in Positions of Public Trust” (74 FR 4111, 3 CFR, 2010 Comp., p. 189).

(B) Direct and administer USDA's program under which information is safeguarded pursuant to Executive Order 13526, “Classified National Security Information” (75 FR 707, 3 CFR, Comp. 2010, p. 298), or subsequent orders.

(C) Establish and maintain Information Security policies and procedures for classifying, declassifying, safeguarding, and disposing of classified national security information and materials.

(D) Investigate or delegate authority to investigate any potential compromises of classified national security information and take corrective action for violations or infractions under section 5.5(b) of Executive Order 13526 or any subsequent order.

(E) Develop and maintain oversight of all facilities throughout USDA where classified national security information is or will be safeguarded, discussed, or processed including sole authority to liaison with the Central Intelligence Agency concerning guidance, approval, requirements, and oversight of USDA secure facilities.

(F) Act as the USDA focal point to identify, receive, disseminate and safeguard USDA related intelligence information as required; convey information to USDA policy officials; and liaise with the intelligence community, as appropriate.

(xi) Control within USDA the acquisition, use, and disposal of material and equipment that can be a source of ionizing radiation.

(A) Promulgate policies and procedures for ensuring the safety of USDA employees, the public, and the environment resulting from USDA's use of ionizing radiation sources.

(B) Maintain and ensure compliance with the Nuclear Regulatory Commission regulations (Title 10, Code of Federal Regulations) and license(s) issued to USDA for the acquisition, use, and disposal of radioactive materials.

* * * * *

(13) * * *

(ii) Provide Departmentwide coordination for efforts to improve customer service.

* * * * *

11. Amend § 2.25 by adding paragraph (a)(26) to read as follows:

§ 2.25 Assistant Secretary for Civil Rights

(a) * * *

(26) As directed by section 12403(a) of the Agriculture Improvement Act of 2018, conduct civil rights impact analyses in accordance with Departmental Regulation 4300-004 issued on October 17, 2016, with respect to the Department's employment, federally conducted programs and activities, and federally assisted programs and activities.

* * * * *

12. Amend § 2.26 by adding paragraphs (a)(1)(xxx), (xlv), and (xlviii) and (a)(1)(l) to read as follows:

§ 2.26 Under Secretary for Trade and Foreign Agricultural Affairs.

(a) * * *

(1) * * *

(xxx) Promote cooperation and coordination between 1862, 1890, 1994, and NLGCA Institutions, HSACUs, and cooperating forestry schools and international partner institutions in developing countries by exercising the Secretary's authority in 7 U.S.C. 3292, including coordinating with the Under Secretary for Research, Education, and Economics to place interns from covered institutions in, or in service to benefit, developing countries.

* * * * *

(xlv) Administer the International Agricultural Education Fellowship Program (7 U.S.C. 3295).

* * * * *

(xlviii) Compile and make available information relating to the improvement of international food security, and provide technical assistance for the improvement of international food security to Federal, State, or local agencies; agencies or instrumentalities of the government of foreign country; domestic or international organizations; or intergovernmental organizations (7 U.S.C. 1736dd).

* * * * *

(l) In consultation with the Tribal Advisory Committee and the Director of the Office of Tribal Relations, and in coordination with the Secretaries of Commerce, State, Interior, and the heads of any other relevant Federal agencies, implement section 3312 of the Agriculture Improvement Act of 2018 (7 U.S.C. 5608) to support greater inclusion of Tribal agricultural food products in Federal trade activities.

* * * * *

Subpart D—Delegations of Authority to Other General Officers and Agency Heads

13. Amend § 2.29 by adding paragraphs (a)(4)(v) and (a)(14)(iv) and revising paragraph (a)(16) to read as follows:

§ 2.29 Chief Economist.

(a) * * *

(4) * * *

(v) Coordinate with the Director of the National Drought Mitigation Center and the Administrator of the National Oceanic and Atmospheric Administration to enhance the collection of data to improve the accuracy of the United States Drought Monitor (7 U.S.C. 5856).

* * * * *

(14) * * *

(iv) Carry out the duties of the Food Loss and Waste Reduction Liaison, including entering into contracts or cooperative agreements with the research centers of the Research, Education, and Economics mission area, institutions of higher education, or non-profit organizations (7 U.S.C. 6924).

* * * * *

(16) Related to Pest Management and Policy. (i) Coordinate USDA policy relative to the Federal Insecticide, Fungicide, and Rodenticide Act, as amended (7 U.S.C. 136 et seq.) and coordinate the Department's Integrated Pest Management Programs and the Pesticide Assessment Program (7 U.S.C. 136-136y) (7 U.S.C. 7653).

(ii) Conduct a multiple crop and pesticide use survey as authorized by section 10109 of the Agricultural Improvement Act of 2018.

* * * * *

14. Amend § 2.31 by adding paragraph (c) to read as follows:

§ 2.31 General Counsel.

* * * * *

(c) Related to the Freedom of Information Act. (1) Serve as the Chief Freedom of Information Act Officer for the Department; oversee general officers and agency heads in efficient and appropriate compliance with the provisions of the Freedom of Information Act (5 U.S.C. 552); monitor implementation of 5 U.S.C. 552 throughout the agency and keep the Secretary and the Attorney General informed regarding agency performance in its implementation; recommend to the Secretary necessary adjustments to agency practices, policies, personnel, and funding to improve implementation of 5 U.S.C. 552; review and report to the Attorney General, through the Secretary, as the Attorney General may direct; and, facilitate public understanding of the purposes of the statutory exemptions contained in 5 U.S.C. 552.

(2) Manage the Freedom of Information Act operations for the Research, Education, and Economics mission area, the Trade and Foreign Agricultural Affairs mission area, and all staff offices of the Department.

15. Add § 2.32 to read as follows:

§ 2.32 Chief Information Officer.

(a) Delegations. The Chief Information Officer is responsible for executing the duties enumerated in Public Law 104-106 for agency Chief Information Officers, and additional specified duties, as follows:

(1) Report directly to the Secretary of Agriculture regarding information technology matters.

(2) Oversee all information technology and information resource management activities relating to the programs and operations of the Department and component agencies. This oversight includes approving information technology investments, monitoring and evaluating the performance of those investments and information resource management activities, approval of all architectures and components thereto and determining whether to continue, modify, or terminate an information technology program or project.

(3) Provide advice and other assistance to the Secretary and other senior management personnel to ensure that information technology acquired and managed for the Department consistent with chapter 35 of title 44, United States Code (Coordination of Federal Information Policy).

(4) Develop, implement, and maintain a sound and integrated Departmentwide information technology architecture.

(5) Promote the effective and efficient design and operation of all major information resources management processes for the Department, including improvements to work processes of the Department.

(6) Approve the acquisition or procurement of information technology resources by, or on behalf of, any Department agency or office.

(7) Collaborate with Department procurement personnel with respect to information technology acquisition strategy and policy.

(8) Function as the Major Information Technology Systems Executive in USDA to integrate and unify the management process for the Department's major information technology system acquisitions and to monitor implementation of the policies and practices set forth in Office of Management and Budget (OMB) Circular No. A-109, Major Systems Acquisitions, for information technology. This includes the authority to:

(i) Ensure that OMB Circular No. A-109 is effectively implemented for information technology systems in the Department and that the management objectives of the Circular are realized.

(ii) Review the program management of each major information technology system acquisition.

(iii) Approve the appointment of the program manager for each major information technology systems acquisition.

(iv) Designate any Departmental information technology acquisition as a major system acquisition under OMB Circular No. A-109.

(9) On an annual basis:

(i) Assess Departmentwide personnel requirements regarding knowledge and skill in information resources management, and the adequacy of such requirements, to achieve the performance goals established for information resources management.

(ii) Develop strategies and specific plans for hiring, training, and professional development at the executive and management level to meet personnel information technology personnel requirements.

(iii) Report to the Assistant Secretary for Administration on progress made in improving information resources management capability.

(10) Function as the senior official to carry out the responsibilities of the Department under chapter 35 of title 44, United States Code (Coordination of Federal Information Policy), including:

(i) Ensure that the information policies, principles, standards, guidelines, rules and regulations prescribed by OMB are appropriately implemented within the Department.

(ii) Review proposed Department reporting and record keeping requirements, including those contained in rules and regulations, to ensure that they impose the minimum burden upon the public and have practical utility for the Department.

(iii) Develop and implement procedures for assessing the burden to the public and costs to the Department of information requirements contained in proposed legislation affecting Department programs.

(iv) Assist OMB in the performance of its functions assigned under the E-Government Act of 2002 (Pub. L. 107-347), including review of Department and Agency activities for compliance.

(v) Assist OMB in the performance of its functions assigned under the Paperwork Reduction Act of 1995 (44 U.S.C. 3501-3520), including review of Department and Agency activities for compliance.

(11) The Chief Information Officer is also responsible for the following:

(i) Provide Departmentwide guidance and direction in planning, developing, documenting, and managing applications software projects in accordance with Federal and Department information processing standards, procedures, and guidelines.

(ii) Provide Departmentwide guidance and direction in all aspects of information technology, including: Feasibility studies; economic analyses; systems design; acquisition of equipment, software, services, and timesharing arrangements; systems installation; systems performance and capacity evaluation; information technology investment governance; cybersecurity; and privacy. Monitor these activities for agencies' major systems development efforts to assure effective and economic use of resources and compatibility among systems of various agencies when required.

(iii) Manage the Enterprise Data Centers, with the exception of the National Finance Center; and oversee the delivery of Enterprise Data Center goods and services, with authority to take actions required by law or regulation to perform such services as a Working Capital Fund activity.

(iv) Manage a comprehensive set of end user office automation services and oversee the delivery of goods and services associated with end user office automation services, including desktop computers, enterprise networking support, handheld devices, and voice telecommunications, with authority to take actions required by law or regulation to perform such services as a Working Capital Fund activity.

(v) Manage the Agricultural Security Operations Center to enable the Department to effectively monitor, detect, analyze, protect, report, and respond against known cyber vulnerabilities, attacks, and exploitations.

(vi) Manage the Department's Certification and Accreditation process to ensure the Department and agencies have successfully conducted periodic risk assessments of its systems; grant the authority to operate for systems that have successfully completed the Certification and Accreditation process; and rescind or suspend the authority to operate for systems subject to repeated and/or significant security issues.

(vii) Ensure that OMB Circular No. A-16, Coordination of Geographic Information and Related Spatial Data Activities, is effectively implemented in the Department and that the management objectives of the Circular are realized; and providing Departmentwide guidance and direction in governing, developing, implementing, and maintaining a sound and integrated geospatial architecture.

(viii) Provide technical assistance, coordination, and guidance to Department agencies in planning, developing, and carrying out satellite remote sensing activities to ensure full consideration and evaluation of advanced technology; designate the Executive Secretary for the Remote Sensing Coordination Committee; and coordinate administrative, management, and budget information relating to the Department's remote sensing activities including:

(A) Inter- and intra-agency meetings, correspondence, and records;

(B) Budget and management tracking systems; and

(C) Inter-agency contacts and technology transfer.

(ix) Review and evaluate information technology activities related to delegated functions to assure that they conform to all applicable Federal and Department information technology management policies, plans, standards, procedures, and guidelines.

(x) Design, develop, implement, and revise systems, processes, work methods, and techniques to improve the management and operational effectiveness of information resources.

(xi) Manage all aspects of the USDA Telecommunications Program including planning, development, acquisition, and use of equipment and systems for voice, data, and communications, excluding the actual procurement of data transmission equipment, software, maintenance, and related supplies.

(xii) Manage Departmental telecommunications contracts.

(xiii) Provide technical advice throughout the Department.

(xiv) Implement a program for applying information resources management technology to improve productivity in the Department.

(xv) Plan, develop, install, and operate computer-based systems for message exchange, scheduling, computer conferencing, televideo technologies, and other applications of office automation technology which can be commonly used by multiple Department agencies and offices.

(xvi) Represent the Department in contacts with the Government Accountability Office, the General Services Administration, OMB, the National Institute of Standards and Technology, and other organizations or agencies on matters related to delegated responsibilities.

(12) Implement policies established pursuant to paragraphs (a)(1) through (a)(11) of this section by:

(i) Disposing of information technology that is acquired by a Department agency in violation of procedures or standards for the Department Information Systems Technology Architecture.

(ii) Establishing information technology and information resources management performance standards for mission area Chief Information Officers, information resources managers, and project managers to be used in the performance appraisal process.

(iii) Approving the selection of mission area Chief Information Officers and mission area major information technology system project managers in accordance with OMB policies.

(iv) Providing recommendations to mission area heads for the removal or replacement of information technology project managers, when, in the opinion of the Chief Information Officer, applicable laws and policies are being violated, or, when the cost, schedule, or performance of an information technology project would indicate management deficiencies.

(v) Withdrawing agencies' authority to obligate funds on Information Technology programs or projects if the agency violates the Chief Information Officer policies, standards, or Department Information Systems Technology Architecture.

(vi) Requiring mission areas to validate and verify major information technology systems through the use of an existing contract for such purpose designated by the Chief Information Officer.

(vii) Requiring approval by the Chief Information Officer of any proposed acquisition of information technology (whether through the award or modification of a procurement contract, a cooperative or other agreement with a non-Federal party, or an interagency agreement) to ensure technical conformance to the Department technical architecture.

(viii) Providing guidance to USDA regarding implementation of Section 508 of the Rehabilitation Act, as well as on-going consultative assistance regarding information technology accessibility, and reviewing progress made toward achieving information technology accessibility for USDA employees and individuals with disabilities.

(13) Related to the Privacy Act. Appoint a Department Privacy Act Officer; oversee general officers and agency heads in the development and implementation of policies issued pursuant to the provisions of the Privacy Act, 5 U.S.C. 552a; and provide consultation and guidance regarding those policies.

(b) [Reserved]

16. Amend § 2.38 by revising paragraph (a)(1)(iv) and adding paragraphs (a)(2)(vi) through (viii) and (a)(7) and (8) to read as follows:

§ 2.38 Director, Office of Partnerships and Public Engagement.

(a) * * *

(1) * * *

(iv) Administer section 2501 of the Food, Agriculture, Conservation, and Trade Act of 1990 (7 U.S.C. 2279), as amended, except for the beginning farmer and rancher development program in subsection (d) and authorities related to the Census of Agriculture and economic studies in subsection (j) of that section.

* * * * *

(2) * * *

(vi) Consult with the Under Secretary for Trade and Foreign Agricultural Affairs on the implementation of section 3312 of the Agriculture Improvement Act of 2018 (7 U.S.C. 5608) to support greater inclusion of Tribal agricultural food products in Federal trade activities.

(vii) In coordination with the Under Secretary for Rural Development, provide technical assistance to improve access by Tribal entities to rural development programs funded by the Department of Agriculture through available cooperative agreement authorities (7 U.S.C. 2671).

(viii) Oversee the Tribal Advisory Committee (7 U.S.C. 6921).

* * * * *

(7) Oversee the Agricultural Youth Organization Coordinator (7 U.S.C. 6934b).

(8) Exercise the authority of the Secretary related to Tribal Promise Zones under section 12510 of the Agriculture Improvement Act of 2018 (25 U.S.C. 4301 note).

* * * * *

Subpart F—Delegations of Authority by the Under Secretary for Farm Production and Conservation

17. Amend § 2.41 by adding paragraph (a)(6) to read as follows:

§ 2.41 Chief Operating Officer, Farm Production and Conservation Business Center.

(a) * * *

(6) Administer a Century Farms Program as authorized by section 12508 of the Agriculture Improvement Act of 2018 (7 U.S.C. 2266a).

* * * * *

18. Amend § 2.42 by:

a. In paragraph (a)(10), removing the term “7 U.S.C. 450j et seq.” and adding in its place the term “7 U.S.C. 4551 et seq.”; and

b. Revising paragraph (a)(58) introductory text; and

c. Adding paragraph (a)(63).

The revision and additions read as follows:

§ 2.42 Administrator, Farm Service Agency.

(a) * * *

(58) Administer the following provisions of the Agricultural Act of 2014, Public Law 113-79, as amended:

* * * * *

(63) Administer the following provisions of the Agriculture Improvement Act of 2018, Public Law 116-334:

(i) Section 5413 relating to reporting on farm loans (7 U.S.C. 2008x).

(ii) Section 12304 relating to the National Beginning Farmer and Rancher Coordinator (7 U.S.C. 6934a).

(iii) Section 12612 relating to a national agriculture imagery program (7 U.S.C. 2204j).

(iv) Section 12615 relating to the eligibility for farm operators on heirs' property to obtain a farm loan number (7 U.S.C. 2266b).

* * * * *

19. Amend § 2.43 by:

a. Revising paragraphs (a)(3) introductory text and (a)(4)(i);

b. Removing and reserving paragraph (a)(5);

c. Revising paragraph (a)(13);

d. Adding paragraph (a)(16);

e. Revising paragraph (a)(23)(xiv); and

f. Adding paragraphs (a)(31) and (32).

The revisions and additions to read as follows:

§ 2.43 Chief, Natural Resources and Conservation Service.

(a) * * *

(3) Administer the basic program of soil and water conservation under Public Law 74-46, as amended, and related laws (16 U.S.C. 590a-f, q, q-1; 42 U.S.C. 3271-3274; 7 U.S.C. 2201), including:

* * * * *

(4) * * *

(i) The eleven authorized watershed projects authorized under the Flood Control Act of 1944 (Pub. L. 78-534), except for responsibilities assigned to the Forest Service;

* * * * *

(13) Administer natural resources conservation authorities, including authorities related to programs of the Commodity Credit Corporation that provide assistance with respect to natural resources conservation, under Title XII of the Food Security Act of 1985 (the Act), as amended (16 U.S.C. 3801 et seq.), including the following:

(i) Technical assistance related to the conservation of highly erodible lands and wetlands pursuant to sections 1211-1224 of the Act (16 U.S.C. 3811-3824);

(ii) Technical assistance related to the Conservation Reserve Program authorized by sections 1231-1235 of the Act (16 U.S.C. 3831-3835);

(iii) The Wetlands Reserve Program and the Emergency Wetlands Reserve Program authorized by sections 1237-1237F of the Act (16 U.S.C. 3837-3837f) prior to February 7, 2014, the transition authority under section 2703 of the Agricultural Act of 2014, and the Emergency Supplemental Appropriations for Relief from the Major, Widespread Flooding in the Midwest Act, Public Law 103-75;

(iv) The Conservation Security Program authorized by sections 1238-1238C of the Act (16 U.S.C. 3838-3838c) and the Conservation Stewardship Program authorized by sections 1240I-1240L-1 (16 U.S.C. 3839aa-21—3839aa-25).

(v) The Farmland Protection Program authorized by sections 1238H-1238I of the Act (16 U.S.C. 3838h-3838i) prior to February 7, 2014, and the transition authority under section 2704 of the Agricultural Act of 2014;

(vi) The Farm Viability Program authorized by section 1238J of the Act (16 U.S.C. 3838j) prior to February 7, 2014, and the transition authority under section 2704 of the Agricultural Act of 2014;

(vii) The Environmental Quality Incentives Program authorized by sections 1240-1240H of the Act (16 U.S.C. 3839aa-3839aa-8), the Agricultural Water Enhancement Program authorized by section 1240H of the Act (16 U.S.C. 3839aa-9) prior to February 7, 2014, and section 2706 of the Agricultural Act of 2014;

(viii) The conservation of private grazing lands authorized by section 1240M of the Act (16 U.S.C. 3839bb);

(ix) The Wildlife Habitat Incentives Program authorized by section 1240N of the Act (16 U.S.C. 3839bb-1) prior to February 7, 2014 and Section 2707 of the Agricultural Act of 2014;

(x) The program for soil erosion and sedimentation control in the Great Lakes basin authorized by section 1240P of the Act (16 U.S.C. 3839bb-3) prior to February 7, 2014, and section 2708 of the Agricultural Act of 2014;

(xi) The Chesapeake Bay Watershed Program authorized by section 1240Q of the Act (16 U.S.C. 3839bb-4) prior to February 7, 2014, and section 2709 of the Agricultural Act of 2014;

(xii) The delivery of technical assistance under section 1242 of the Act (16 U.S.C. 3842), including the approval of persons or entities outside of USDA to provide technical services;

(xiii) The authority for partnerships and cooperation provided by section 1243 of the Act (16 U.S.C. 3843) prior to February 7, 2014, and section 2710 of the Agricultural Act of 2014; and

(xiv) The incentives for certain farmers and ranchers and Indian tribes and the protection of certain proprietary information related to natural resources conservation programs as provided by section 1244 of the Act (16 U.S.C. 3844), except for responsibilities assigned to the Administrator, Farm Service Agency.

(xv) The Agriculture Conservation Experienced Services Program authorized by section 1252 of the Act (16 U.S.C. 3851).

(xvi) The authority under sections 1261-1262 of the Act (16 U.S.C. 3861-3862) to establish and utilize State Technical Committees.

(xvii) Those portions of the Grassland Reserve Program under sections 1238N-1238Q of the Act (16 U.S.C. 3838n-3838q) prior to February 7, 2014, and section 2705 of the Agricultural Act of 2014 that are or become the responsibility of the Under Secretary for Farm Production and Conservation.

(xiii) The authority in section 1241 of the Act (16 U.S.C. 3841) to accept and use voluntary contributions of non-Federal funds in support of natural resources conservation programs under subtitle D of title XII of the Act with respect to authorities delegated to the Chief, Natural Resources Conservation Service.

(xix) The Agricultural Conservation Easement Program authorized by sections 1265-1265D of the Act (16 U.S.C. 3865-3865d).

(xx) The Regional Conservation Partnership Program authorized by sections 1271-1271F of the Act (16 U.S.C. 3871-3871f).

(xxi) The Voluntary Public Access and Habitat Incentive Program authorized by section 1240R of the Act (16 U.S.C. 3839bb-5).

(xxii) A wetlands mitigation banking program authorized by section 1222(k) of the Act (16 U.S.C. 3822(k)).

* * * * *

(16) Administer the state and private forest landscape-scale restoration program (16 U.S.C. 2109a).

* * * * *

(23) * * *

(xiv) Section 122 of the Act (42 U.S.C. 9622), with respect to settlement, but excluding section 122(b)(1) of the Act.

* * * * *

(31) Enter into cooperative agreements, which may provide for the acquisition of goods or services, including personal services, as authorized by Public Law 106-387 (7 U.S.C. 6962a).

(32) Administer the following provisions of the Agriculture Improvement Act of 2018 (Pub. L. 116-334):

(i) Section 1704 (7 U.S.C. 1308-3a), authorizing waivers of the adjusted gross income limitation.

(ii) In consultation with the Administrator, Farm Service Agency, and the Director of the U.S. Fish and Wildlife Service, Section 2707 (16 U.S.C. 1531 note), relating to wildlife management.

(iii) In coordination with the Under Secretary for Marketing and Regulatory Programs, Section 2408 (7 U.S.C. 8351 note), relating to the Feral Swine Eradication and Control Pilot Program.

(iv) Section 8628, relating to the purchase of Natural Resources Conservation Service property in Riverside County, California.

(v) Section 12302, relating to the Office of Urban Agriculture and Innovative Production.

* * * * *

20. Amend § 2.44 by adding paragraph (a)(9) to read as follows:

§ 2.44 Administrator, Risk Management Agency and Manager, Federal Crop Insurance Corporation.

(a) * * *

(9) Coordinate with the Administrator, Farm Service Agency, on the type and format of data received under the noninsured crop assistance program authorized by Sec. 196 of the Federal Agriculture Improvement and Reform Act of 1996 (Pub. L 104-127, as amended) (7 U.S.C. 7333).

* * * * *

Subpart G—Delegations of Authority by the Under Secretary for Rural Development

21. Correctly designate §§ 2.45 through 2.49 as subpart G under the heading set forth above.

22. Add § 2.45 to read as follows:

§ 2.45 Deputy Under Secretary for Rural Development.

Pursuant to § 2.17(a), subject to reservations in § 2.17(b), and subject to policy guidance and direction by the Under Secretary for Rural Development, the following delegation of authority is made to the Deputy Under Secretary for Rural Development, to be exercised only during the absence or unavailability of the Under Secretary: Perform all the duties and exercise all the powers which are now or which may hereafter be delegated to the Under Secretary for Rural Development.

23. Amend § 2.47 by revising (a)(1) and adding paragraphs (a)(9), (11), and (15) to read as follows:

§ 2.47 Administrator, Rural Utilities Service.

(a) * * *

(1) Administer the Rural Electrification Act of 1936, as amended (7 U.S.C. 901, et seq.): Provided, however, that the Administrator may utilize consultants and attorneys for the provision of legal services pursuant to 7 U.S.C. 918, with the concurrence of the General Counsel.

* * * * *

(9) Consult with the Assistant Secretary of Commerce for Communications and Information to assist in the verification of eligibility of the broadband loan and grant programs of the Department of Agriculture (7 U.S.C. 950bb-6).

* * * * *

(11) In coordination with the Federal Communications Commission, administer Section 12511 of the Agriculture Improvement Act of 2018 (Pub. L. 115-334) relating to the precision agriculture connectivity task force.

* * * * *

(15) In coordination with the Office of Tribal Relations, provide technical assistance to improve access by Tribal entities to rural development programs funded by the Department of Agriculture through available cooperative agreement authorities (7 U.S.C. 2671).

* * * * *

24. Amend § 2.48 by adding paragraph (a)(15), revising paragraphs (a)(28) and (29), and adding paragraphs (a)(35) and (36) to read as follows:

§ 2.48 Administrator, Rural Business-Cooperative Service.

(a) * * *

(15) In coordination with the Office of Tribal Relations, provide technical assistance to improve access by Tribal entities to rural development programs funded by the Department of Agriculture through available cooperative agreement authorities (7 U.S.C. 2671).

* * * * *

(28) In coordination with the Administrator of the Agricultural Marketing Service, administer the value-added producer grants program and farmers' markets and local food promotion program (7 U.S.C. 1627c(d)(5)-(6)).

(29) Administer the Agriculture Innovation Center Demonstration program (7 U.S.C. 1632b).

* * * * *

(35) Implementation of a program for the Federal procurement of biobased products and of a voluntary “USDA Certified Biobased product” labeling program (7 U.S.C. 8102).

(36) Entering into cooperative agreements to further research programs in the food and agricultural sciences, related to establishing and implementing Federal biobased procurement and voluntary biobased labeling programs (7 U.S.C. 3318).

* * * * *

25. Amend § 2.49 by adding paragraphs (a)(7) and (9) to read as follows:

§ 2.49 Administrator, Rural Housing Service.

(a) * * *

(7) In coordination with the Office of Tribal Relations, provide technical assistance to improve access by Tribal entities to rural development programs funded by the Department of Agriculture through available cooperative agreement authorities (7 U.S.C. 2671).

* * * * *

(9) In consultation with the Department of Justice, Secretary of Housing and Urban Development, and Secretary of Health and Human Services, administer the emergency and transitional pet shelter and housing assistance grant program (34 U.S.C. 20127).

* * * * *

Subpart I—Delegations of Authority by the Under Secretary for Food, Nutrition, and Consumer Services

26. Amend § 2.57 by adding paragraphs (a)(1)(xiii) and (xiv) and revising paragraph (a)(2)(xii) to read as follows:

§ 2.57 Administrator, Food and Nutrition Service

(a) * * *

(1) * * *

(xiii) Section 4208 of the Agriculture Improvement Act of 2018 (7 U.S.C. 2026a).

(xiv) Section 12614 of the Agriculture Improvement Act of 2018 (7 U.S.C. 6925).

(2) * * *

(xii) Emergency Food Assistance Act of 1983, as amended (7 U.S.C. 7501 et seq.);

* * * * *

Subpart J—Delegations of Authority by the Under Secretary for Natural Resources and Environment

27. Amend § 2.60 by revising paragraph (a) to read as follows:

§ 2.60 Chief, Forest Service.

(a) Delegations. Pursuant to § 2.20(a)(1), (2), and (6), (a)(7)(ii), and (a)(8), the following delegations of authority are made by the Under Secretary for Natural Resources and Environment to the Chief of the Forest Service:

(1) Provide national leadership in forestry. (As used here and elsewhere in this section, the term “forestry” encompasses renewable and nonrenewable resources of forests, including lands governed by the Alaska National Interest Lands Conservation Act, forest-related rangeland, grassland, brushland, woodland, and alpine areas including but not limited to recreation, range, timber, minerals, watershed, wildlife and fish; natural scenic, scientific, cultural, and historic values of forests and related lands; and derivative values such as economic strength and social well-being).

(2) Protect, manage, and administer the national forests, national forest purchase units, national grasslands, and other lands and interests in lands administered by the Forest Service, which collectively are designated as the National Forest System.

(3) Acquire, dispose, and lease lands and interest in lands as may be authorized for the protection, management, and administration of the National Forest System, except that the authority to approve acquisition of land under the Weeks Act of March 1, 1911, as amended, and special forest receipts acts (Pub. L. No. 337, 74th Cong., 49 Stat. 866, as amended by Pub. L. 310, 78th Cong., 58 Stat. 227; Pub. L. 505, 75th Cong., 52 Stat. 347, as amended by Pub. L. 310, 78th Cong., 58 Stat. 227; Pub. L. 634, 75th Cong., 52 Stat. 699, as amended by Pub. L. 310, 78th Cong., 58 Stat. 227; Pub. L. No. 748, 75th Cong., 52 Stat. 1205, as amended by Pub. L. 310, 78th Cong., 58 Stat. 227; Pub. L. 427, 76th Cong., 54 Stat. 46; Pub. L. 589, 76th Cong., 54 Stat. 297; Pub. L. 591, 76th Cong., 54 Stat. 299; Pub. L. 637, 76th Cong., 54 Stat. 402; Pub. L. 781, 84th Cong., 70 Stat. 632) is limited to acquisitions of less than $250,000 in value.

(4) As necessary for administrative purposes, divide into and designate as national forests any lands of 3,000 acres or less which are acquired under or subject to the Weeks Act of March 1, 1911, as amended, and which are contiguous to existing national forest boundaries established under the authority of the Weeks Act.

(5) Plan and administer wildlife and fish conservation rehabilitation and habitat management programs on National Forest System lands, pursuant to 16 U.S.C. 670g, 670h, and 670.

(6) For the purposes of the National Forests System Drug Control Act of 1986 (16 U.S.C. 559b 559g), specifically designate certain specially trained officers and employees of the Forest Service, not exceeding 500, to have authority in the performance of their duties within the boundaries of the National Forest System:

(i) To carry firearms;

(ii) To enforce and conduct investigations of violations of section 401 of the Controlled Substance Act (21 U.S.C. 841) and other criminal violations relating to marijuana and other controlled substances that are manufactured, distributed, or dispensed on National Forest System lands;

(iii) To make arrests with a warrant or process for misdemeanor violations, or without a warrant for violations of such misdemeanors that any such officer or employee has probable cause to believe are being committed in that employee's presence or view, or for a felony with a warrant or without a warrant if that employee has probable cause to believe that the person being arrested has committed or is committing such a felony;

(iv) To serve warrants and other process issued by a court or officer of competent jurisdiction;

(v) To search, with or without a warrant or process, any person, place, or conveyance according to Federal law or rule of law; and

(vi) To seize, with or without warrant or process, any evidentiary item according to Federal law or rule of law.

(7) Cooperate with the law enforcement officials of any Federal agency, State, or political subdivision, in the investigation of violations of, and enforcement of, section 401 of the Controlled Substances Act (21 U.S.C. 841), other laws and regulations relating to marijuana and other controlled substances, and State drug control laws or ordinances, within the boundaries of the National Forest System.

(8) Administer programs under section 23 of the Federal Highway Act (23 U.S.C. 101(a), 120(f), 125(a)-(c), 138, 202(a)-(b), 203, 204(a)-(c), 205(a)-(d), 211, 317, 401).

(9) Administer provisions of the Surface Mining Control and Reclamation Act of 1977 (30 U.S.C. 1272, 1305) as they relate to management of the National Forest System.

(10) Conduct, support, and cooperate in investigations, experiments, tests, and other activities deemed necessary to obtain, analyze, develop, demonstrate, and disseminate scientific information about protecting, managing, and utilizing forest and rangeland renewable resources in rural, suburban, and urban areas in the United States and foreign countries. The activities conducted, supported, or cooperated in shall include, but not be limited to: Renewable resource management research; renewable resource environmental research; renewable resource protection research, renewable resource utilization research, and renewable resource assessment research (16 U.S.C. 1641-1647).

(11) Use authorities and means available to disseminate the knowledge and technology developed from forestry research (16 U.S.C. 1645).

(12) Coordinate activities with other agencies in USDA, other Federal and State agencies, forestry schools, and private entities and individuals (16 U.S.C. 1643).

(13) Enter into contracts, grants, and cooperative agreements for the support of scientific research in forestry activities (7 U.S.C. 3105, 1624; 16 U.S.C. 582a-8, 1643-1645, 1649).

(14) Enter into cooperative research and development agreements with industry, universities, and others; institute a cash award program to reward scientific, engineering, and technical personnel; award royalties to inventors; and retain and use royalty income (15 U.S.C. 3710a-3710c).

(15) Enter into contracts, grants, or cooperative agreements to further research, extension, or teaching programs in the food and agricultural sciences (7 U.S.C. 3152, 3318).

(16) Enter into cost-reimbursable agreements relating to agricultural research, extension, or teaching activities (7 U.S.C. 3319a).

(17) Administer programs of cooperative forestry assistance in the protection, conservation, and multiple resource management of forests and related resources in both rural and urban areas and forest lands in foreign countries (16 U.S.C. 2101-2114).

(18) Provide assistance to States and other units of government in forest resources planning and forestry rural revitalization (7 U.S.C. 6601, 6611-6617; 16 U.S.C. 2107).

(19) Conduct a program of technology implementation for State forestry personnel, private forest landowners and managers, vendors, forest operators, public agencies, and individuals (16 U.S.C. 2107).

(20) Administer rural fire protection and control program (16 U.S.C. 2106c).

(21) Provide technical assistance on forestry technology or the implementation of the conservation reserve and softwood timber programs authorized in sections 1231-1244 and 1254 of the Food Security Act of 1985 (16 U.S.C. 3831-3844; 7 U.S.C. 1981 note).

(22) Administer forest insect, disease, and other pest management programs (16 U.S.C. 2104).

(23) Exercise the custodial functions of the Secretary for lands and interests in lands under lease or contract of sale to States and local agencies pursuant to title III of the Bankhead-Jones Farm Tenant Act and administer reserved and reversionary interests in lands conveyed under that Act (7 U.S.C. 1010-1013a).

(24) Under such general program criteria and procedures as may be established by the Natural Resources Conservation Service:

(i) Administer the forestry aspects of the programs listed in paragraphs (a)(24)(i)(A) through (C) of this section on the National Forest System, rangelands with national forest boundaries, adjacent rangelands which are administered under formal agreement, and other forest lands:

(A) The cooperative river basin surveys and investigations program (16 U.S.C. 1006);

(B) The eleven authorized watershed improvement programs and emergency flood prevention measures program under the Flood Control Act of 1944 (Pub. L. 78-534);

(C) The small watershed protection program under the Pilot Watershed Protection and Watershed Protection and Flood Prevention Acts (7 U.S.C. 701a-h; 16 U.S.C. 1001-1009).

(ii) Exercise responsibility in connection with the forestry aspects of the resource conservation and development program authorized by title III of the Bankhead-Jones Farm Tenant Act (7 U.S.C. 1011(e)).

(25) Provide assistance to the Farm Service Agency in connection with the agricultural conservation program, the naval stores conservation program, and the cropland conversion program (16 U.S.C. 590g-q).

(26) Provide assistance to the Rural Housing Service in connection with grants and loans under authority of section 303 of the Consolidated Farm and Rural Development Act, 7 U.S.C. 1923;

(27) Coordinate mapping work of USDA including:

(i) Clearing mapping projects to prevent duplication;

(ii) Keeping a record of mapping done by USDA agencies;

(iii) Preparing and submitting required USDA reports;

(iv) Serving as liaison on mapping with the Office of Management and Budget, Department of the Interior, and other departments and establishments;

(v) Promoting interchange of technical mapping information, including techniques which may reduce costs or improve quality; and

(vi) Maintaining the mapping records formerly maintained by the Office of Operations.

(28) Administer the radio frequency licensing work of USDA, including:

(i) Representing USDA on the Interdepartmental Radio Advisory Committee and its Frequency Assignment Subcommittee of the National Telecommunications and Information Administration, Department of Commerce;

(ii) Establishing policies, standards, and procedures for allotting and assigning frequencies within USDA and for obtaining effective utilization of them;

(iii) Providing licensing action necessary to assign radio frequencies for use by the agencies of USDA and maintenance of the records necessary in connection therewith; and

(iv) Providing inspection of USDA's radio operations to ensure compliance with national and international regulations and policies for radio frequency use.

(29) Represent USDA in all matters relating to responsibilities and authorities under the Federal Power Act (16 U.S.C. 791a-823).

(30) Administer the Youth Conservation Corps Act (16 U.S.C. 1701-1706)) for USDA.

(31) Establish and operate the Job Corps Civilian Conservation Centers on National Forest System lands as authorized by title I, sections 106 and 107 of the Economic Opportunity Act of 1964 (42 U.S.C. 2716), in accordance with the terms of an agreement dated May 11, 1967, between the Secretary of Agriculture and the Secretary of Labor; and administration of other cooperative manpower training and work experience programs where the Forest Service serves as host or prime sponsor with other Departments of Federal, State, or local governments.

(32) Administer the Volunteers in the National Forests Act of 1972 (16 U.S.C. 558a-558d, 558a note).

(33) Exercise the functions of the Secretary of Agriculture authorized in the Alaska National Interest Lands Conservation Act (16 U.S.C. 3101-3215).

(34) Administer responsibilities and functions assigned under the Defense Production Act of 1950, as amended (50 U.S.C. 4501 et seq.), and title VI of the Robert T. Stafford Disaster Relief and Emergency Assistance Act (42 U.S.C. 5121 et seq.), relating to forests and forest products, rural fire defense, and forestry research.

(35) Represent USDA on Regional Response Teams on hazardous spills and oil spills pursuant to the Comprehensive Environmental Response, Compensation, and Liability Act, as amended (42 U.S.C. 9601 et seq.), the Clean Water Act, as amended (33 U.S.C. 1251 et seq.), the Oil Pollution Act (OPA), as amended (33 U.S.C. 2701 et seq.), Executive Order 12580, 3 CFR, 1987 Comp., p. 193, Executive Order 12777, 3 CFR, 1991 Comp., p. 351, and the National Contingency Plan, 40 CFR part 300.

(36) Exercise the functions of the Secretary as authorized in the Wild and Scenic Rivers Act (16 U.S.C. 1271-1287, except for making recommendations to the President regarding additions to the National Wild and Scenic Rivers System.

(37) Issue proposed rules relating to the authorities delegated in this section, issue final rules and regulations as provided in 36 CFR 261.70, issue technical amendments and corrections to final rules issued by the Secretary or Under Secretary for Natural Resources and Environment, and issue proposed and final rules necessary and appropriate to carry out title VIII of the Alaska National Interest Lands Conservation Act (16 U.S.C. 3101-3215) with regard to National Forest System Lands.

(38) Jointly administer gypsy moth eradication activities with the Animal and Plant Health Inspection Service, under the authority of section 102 of the Organic Act of 1944, as amended; and the Act of April 6, 1937, as amended (7 U.S.C. 7759, 148, 148a-148e); and the Talmadge Aiken Act (7 U.S.C. 1633), by assuming primary responsibility for treating isolated gypsy moth infestations on Federal lands, and on State and private lands contiguous to infested Federal lands, and any other infestations over 640 acres on State and private lands.

(39) With respect to land and facilities under his or her authority, to exercise the functions delegated to the Secretary by Executive Order 12580, 3 CFR, 1987 Comp., p. 193, under the following provisions of the Comprehensive Environmental Response, Compensation, and Liability Act of 1980 (“the Act”), as amended:

(i) Sections 104(a), (b), and (c)(4) of the Act (42 U.S.C. 9604 (a), (b), and (c)(4)), with respect to removal and remedial actions in the event of release or threatened release of a hazardous substance, pollutant, or contaminant into the environment;

(ii) Sections 104 (e)-(h) of the Act (42 U.S.C. 9604 (e)-(h)), with respect to information gathering and access requests and orders; compliance with Federal health and safety standards and wage and labor standards applicable to covered work; and emergency procurement powers;

(iii) Section 104(i)(11) of the Act (42 U.S.C. 9604(i)(11)), with respect to the reduction of exposure to significant risk to human health;

(iv) Section 104(j) of the Act (42 U.S.C. 9604(j)), with respect to the acquisition of real property and interests in real property required to conduct a remedial action;

(v) The first two sentences of section 105(d) of the Act (42 U.S.C. 9605(d)), with respect to petitions for preliminary assessment of a release or threatened release;

(vi) Section 105(f) of the Act (42 U.S.C. 9605(f)), with respect to consideration of the availability of qualified minority firms in awarding contracts, but excluding that portion of section 105(f) of the Act pertaining to the annual report to Congress;

(vii) Section 109 of the Act (42 U.S.C. 9609), with respect to the assessment of civil penalties for violations of section 122 of the Act (42 U.S.C. 9622), and the granting of awards to individuals providing information;

(viii) Section 111(f) of the Act (42 U.S.C. 9611(f)), with respect to the designation of officials who may obligate money in the Hazardous Substances Superfund;

(ix) Section 113(g) of the Act (42 U.S.C. 9613(g)), with respect to receiving notification of a natural resource trustee's intent to file suit;

(x) Section 113(k) of the Act (42 U.S.C. 9613(k)), with respect to establishing an administrative record upon which to base the selection of a response action and identifying and notifying potentially responsible parties;

(xi) Section 116(a) of the Act (42 U.S.C. 9616(a)), with respect to preliminary assessment and site inspection of facilities;

(xii) Section 117(a) and (c) of the Act (42 U.S.C. 9617(a) and (c)), with respect to public participation in the preparation of any plan for remedial action and explanation of variances from the final remedial action plan for any remedial action or enforcement action, including any settlement or consent decree entered into;

(xiii) Section 119 of the Act (42 U.S.C. 9619), with respect to indemnifying response action contractors;

(xiv) Section 121 of the Act (42 U.S.C. 9621), with respect to cleanup standards; and

(xv) Section 122 of the Act (42 U.S.C. 9622), with respect to settlements, but excluding section 122(b)(1) of the Act (42 U.S.C. 9622(b)(1)), related to mixed funding agreements.

(40) Exercise the functions of the Secretary authorized in the Federal Onshore Oil and Gas Leasing Reform Act of 1987 (30 U.S.C. 226 et seq.).

(41) With respect to facilities and activities under his or her authority, to exercise the authority of the Secretary of Agriculture pursuant to section 1-102 related to compliance with applicable pollution control standards and section 1-601 of Executive Order 12088, 3 CFR, 1978 Comp., p. 243, to enter into an inter-agency agreement with the United States Environmental Protection Agency, or an administrative consent order or a consent judgment in an appropriate United States District Court with an appropriate State, interstate, or local agency, containing a plan and schedule to achieve and maintain compliance with applicable pollution control standards established pursuant to the following:

(i) Solid Waste Disposal Act, as amended by the Resource Conservation and Recovery Act, the Hazardous and Solid Waste Amendment, and the Federal Facility Compliance Act (42 U.S.C. 6901 et seq.);

(ii) Federal Water Pollution Prevention and Control Act, as amended (33 U.S.C. 1251 et seq.);

(iii) Safe Drinking Water Act, as amended (42 U.S.C. 300f et seq.);

(iv) Clean Air Act, as amended (42 U.S.C. 7401 et seq.);

(v) Noise Control Act of 1972, as amended (42 U.S.C. 4901 et seq.);

(vi) Toxic Substances Control Act, as amended, (15 U.S.C. 2601 et seq.);

(vii) Federal Insecticide, Fungicide, and Rodenticide Act, as amended (7 U.S.C. 136 et seq.); and

(viii) Comprehensive Environmental Response, Compensation, and Liability Act of 1980, as amended by the Superfund Amendments and Reauthorization Act of 1986 (42 U.S.C. 9601 et seq.).

(42) With respect to land and facilities under his or her authority, exercise the functions delegated to the Secretary by Executive Order 12580, 3 CFR, 1987 Comp., p. 193, and Executive Order 12777, 3 CFR, 1991 Comp., p. 351, to act as Federal trustee for natural resources in accordance with section 107(f) of the Comprehensive Environmental Response, Compensation, and Liability Act of 1980 (42 U.S.C. 9607(f)), section 311(f)(5) of the Federal Water Pollution Control Act (33 U.S.C. 1321(f)(5)), and section 1006(b)(2) of the Oil Pollution Act of 1990 (33 U.S.C. 2706(b)(2)).

(43) With respect to land and facilities under his or her authority, to exercise the authority vested in the Secretary of Agriculture to act as the “Federal Land Manager” pursuant to the Clean Air Act, as amended, 42 U.S.C. 7401 et seq.

(44) Administer the Public Lands Corps program (16 U.S.C. 1721 et seq.) for USDA consistent with the Department's overall national service program.

(45) [Reserved]

(46) Focusing on countries that could have a substantial impact on global warming, provide assistance that promotes sustainable development and global environmental stability; share technical, managerial, extension, and administrative skills; provide education and training opportunities; engage in scientific exchange; and cooperate with domestic and international organizations that further international programs for the management and protection of forests, rangelands, wildlife, fisheries and related natural resources (16 U.S.C. 4501-4505).

(47) Exercise the functions of the Secretary of Agriculture authorized in Title V of the Department of the Interior and Related Agencies Appropriations Act of 1998, Public Law 105-83, relating to the acquisition so the New World Mines and other priority land acquisitions, land exchanges, and other activities.

(48) Establish programs with any bureau of the U.S. Department of the Interior (DOI), or with other agencies within USDA, in support of the Service First initiative for the purpose of promoting customer service and efficiency, including delegating to employees of DOI and other USDA agencies the authorities of the Forest Service necessary to carry out projects on behalf of USDA (43 U.S.C. 1703).

(49) At the request of the Director, Homeland Security Staff (Director), designate law enforcement personnel of the Forest Service to assist the Director in providing for the personal security for the Secretary and the Deputy Secretary in the National Forest System.

(50) Implement the information disclosure authorities of section 1619(b)(3)(A) of the Food, Conservation, and Energy Act of 2008 (7 U.S.C. 8791(b)(3)(A)).

(51) Administer a program, through the Deputy Chief of State and Private Forestry, for providing loans to eligible units of local government to finance the purchase of equipment to monitor, remove, dispose of, and replace infested trees located under their jurisdiction and within the borders of quarantined areas (16 U.S.C. 2104a).

(52) [Reserved]

(53) Administer the community wood energy program providing grants to develop community wood energy plans, acquire or upgrade community wood energy systems, and establish or expand biomass consumer cooperatives (7 U.S.C. 8113).

(54) Conduct activities that assist the Director, Office of Environmental Markets, in developing guidelines regarding the development of environmental services markets.

(55) Administer the programs authorized by the Healthy Forests Restoration Act of 2003 (16 U.S.C. 6501 et seq.), except for the Healthy Forests Reserve Program authorized in title V of such act (16 U.S.C. 6571-6578).

(56) Administer Good Neighbor contracts and cooperative agreements with a State to carry out forest, rangeland, and watershed restoration services on National Forest System lands (16 U.S.C. 2113a).

(57) Utilize the Agriculture Conservation Experienced Services (ACES) Program (16 U.S.C. 3851) to provide technical services for conservation-related programs and authorities carried out on National Forest System lands (16 U.S.C. 3851a).

(58) Enter into reciprocal fire agreements or contracts with domestic entities. Administer reimbursements received for fire suppression (16 U.S.C. 1856-1856e).

(59) Administer the large airtanker and aerial asset lease program (16 U.S.C. 551c).

(60) Provide technical and other assistance with respect to eligibility of forest products for the “USDA Certified Biobased Products” labeling program (7 U.S.C. 8102(g)).

(61) Cooperate with public or private entities or individuals to perform work on state, county, municipal, or private lands within or near the boundary of National Forest System lands for administration, protection, improvement, reforestation, and other kinds of work the Forest Service is authorized to do on National Forest System lands, and cooperate with public or private entities or individuals to perform the same kinds of work in connection with the use or occupancy of National Forest System lands (16 U.S.C. 572).

(62) Enter into reciprocal fire agreements with foreign fire organizations. (42 U.S.C. 1856m-1856o).

(63) Administer the payments to states program (16 U.S.C. 500; 16 U.S.C. 7101-7153); establish, maintain, and appoint members to Resource Advisory Committees (16 U.S.C. 7125).

(64) Administer the Wood Innovation Grant program (7 U.S.C. 7655d).

* * * * *

Subpart K—Delegations of Authority by the Under Secretary for Research, Education, and Economics

28. Amend § 2.65 by revising paragraph (a)(2) and adding paragraphs (a)(30) and (47) to read as follows:

§ 2.65 Administrator, Agricultural Research Service.

(a) * * *

(2) Conduct research related to the economic feasibility of the manufacture and commercialization of natural rubber from hydrocarbon-containing plants and other critical agricultural materials from native agricultural crops having strategic and industrial importance (7 U.S.C. 178-178n).

* * * * *

(30) Promote cooperation and coordination between 1862, 1890, 1994, and NLGCA Institutions, HSACUs, and cooperating forestry schools and international partner institutions in developing countries by exercising the Secretary's authority in 7 U.S.C. 3292, including coordinating with the Administrator, Foreign Agricultural Service to place interns from covered institutions in, or in service to benefit, developing countries.

* * * * *

(47) Establish a National Plant Disease Recovery System to engage in strategic long-range planning to recover from high-consequence plant transboundary diseases (7 U.S.C. 8914(d)).

* * * * *

29. Amend § 2.66 by:

a. Revising paragraph (a)(1);

b. Adding paragraphs (a)(9), (14), (15), (21), (27), (34), (35), (43), (56), (77), (79), (91), and (103);

c. Revising paragraph (a)(132); and

d. Adding paragraphs (a)(137) and (152).

The revisions to read as follows:

§ 2.66 Director, National Institute of Food and Agriculture.

(a) * * *

(1) Administer research and technology development grants related to the economic feasibility of the manufacture and commercialization of natural rubber from hydrocarbon-containing plants and other critical agricultural materials from native agricultural crops having strategic and industrial importance (7 U.S.C. 178-178n).

* * * * *

(9) Administer a next generation agriculture technology challenge competition to incentivize mobile technology that removes marketplace entry barriers for beginning farmers and ranchers (7 U.S.C. 3158).

* * * * *

(14) Administer a program to make competitive grants to assist in the construction, alteration, acquisition, modernization, renovation, or remodeling of agricultural research facilities (7 U.S.C. 390b).

(15) Promote cooperation and coordination between 1862, 1890, 1994, and NLGCA Institutions, HSACUs, and cooperating forestry schools and international partner institutions in developing countries by exercising the Secretary's authority in 7 U.S.C. 3292, including coordinating with the Administrator, Foreign Agricultural Service to place interns from covered institutions in, or in service to benefit, developing countries.

* * * * *

(21) Administer grants to 1890 Institutions, including Tuskegee University, for purposes of awarding scholarships to individuals pursuing careers in the food and agricultural sciences (7 U.S.C. 3222a).

* * * * *

(27) Make competitive grants to land-grant colleges and universities, including 1994 Institutions, to provide identifiable support specifically targeted for Tribal students (7 U.S.C. 3222e).

* * * * *

(34) Administer competitive grants for the acquisition of special purpose scientific research equipment for use in the food and agricultural sciences programs of eligible institutions (7 U.S.C. 3310a).

(35) Establish a National Plant Diagnostic Network to monitor and surveil through diagnostics threats to plant health from diseases or pests of concern in the United States and establish cooperative agreements with land-grant colleges and universities (7 U.S.C. 8914(c)).

* * * * *

(43) In consultation with the Urban Agriculture and Innovative Production Advisory Committee, administer competitive grants to support research, education, and extension activities for the purposes of facilitating the development of urban, indoor, and other emerging agricultural production, harvesting, transportation, aggregation, packaging, distribution, and markets (7 U.S.C. 5925g).

* * * * *

(56) Prepare an annual report to Congress on disbursements of funds for agricultural research and extension at 1890 and 1862 Institutions for programs under the following authorities: 7 U.S.C. 3221; 7 U.S.C. 3222; 7 U.S.C. 343(b) and (c); and 7 U.S.C. 361a et seq. (7 U.S.C. 2207d).

* * * * *

(77) Recognize centers of excellence, led by 1890 Institutions, focused on student success and workforce development; nutrition, health, wellness, and quality of life; farming systems, rural prosperity, and economic sustainability; global food security and defense, natural resources, energy, and environment; and emerging technologies, and submit an annual report to Congress on the resources invested in and work being done by such centers (7 U.S.C. 5926).

* * * * *

(79) Administer grants to consortia of land-grant colleges and universities to enhance the ability of the consortia to carry out multi-State research projects aimed at understanding and combating diseases of wheat, triticale, and barley caused by Fusarium graminearum and related fungi or Tilletia indica and related fungi (7 U.S.C. 7628).

* * * * *

(91) Administer an experienced services program to obtain technical, professional, and administrative services to support the research, education, and economics mission area of the Department (16 U.S.C. 3851).

* * * * *

(103) In consultation with the Administrator of the Food and Nutrition Service, administer pilot projects to encourage the use of public-private partnerships committed to addressing food insecurity (7 U.S.C. 2036d).

* * * * *

(132) Administer a program of competitive grants, establish education teams, and establish an online clearinghouse of curricula and training materials and programs, all for training, education, outreach, and technical assistance initiatives for the benefit of beginning farmers and ranchers (7 U.S.C. 2279(d)).

* * * * *

(137) In consultation with the Secretary of Energy, administer competitive grants to provide education about carbon utilization and biogas (7 U.S.C. 8115).

* * * * *

(152) Administer a competitive grant program to support the development and expansion of advanced training programs in agricultural biosecurity planning and response for food science professionals and veterinarians (7 U.S.C. 8913).

* * * * *

30. Amend § 2.68 by adding paragraph (a)(14) to read as follows:

§ 2.68 Administrator, National Agricultural Statistics Service.

(a) * * *

(14) Collect and, not less frequently than once every 3 years report, data and analysis on farmland ownership, tenure, transition, and entry of beginning farmers and ranchers and socially disadvantaged farmers and ranchers (7 U.S.C. 2204i).

* * * * *

§ 2.69 [Amended]

31. Amend § 2.69 in paragraph (b) by removing the term “Research, Education, and Extension Office” and adding in its place the term “Office of the Chief Scientist”.

Subpart L—Delegations of Authority by the Chief Economist

32. Amend § 2.72 by adding paragraph (a)(2)(v) to read as follows:

§ 2.72 Chairman, World Agricultural Outlook Board.

(a) * * *

(2) * * *

(v) Coordinate with the Director of the National Drought Mitigation Center and the Administrator of the National Oceanic and Atmospheric Administration to enhance the collection of data to improve the accuracy of the United States Drought Monitor (7 U.S.C. 5856).

* * * * *

33. Amend § 2.75 by adding paragraph (a)(2) to read as follows:

§ 2.75 Director, Office of Pest Management Policy.

(a) * * *

(2) Conduct a multiple crop and pesticide use survey as authorized by section 10109 of the Agricultural Improvement Act of 2018.

* * * * *

Subpart N—Delegations of Authority by the Under Secretary for Marketing and Regulatory Programs

34. Amend § 2.79 by revising paragraph (a)(8)(lxiii) and adding paragraphs (a)(8)(lxxiii), (lxxvi), (lxxx), and (a)(23) and (24) to read as follows:

§ 2.79 Administrator, Agricultural Marketing Service.

(a) * * *

(8) * * *

(lxiii) Local Agriculture Market Program (7 U.S.C. 1627c), in coordination with the Administrator, Rural Business-Cooperative Service.

* * * * *

(lxxiii) Section 12108 of the Agriculture Improvement Act of 2018 (7 U.S.C. 1622 note).

* * * * *

(lxxvi) Section 4206 of the Agriculture Improvement Act of 2018 (7 U.S.C. 7518).

* * * * *

(lxxx) Section 12513 of the Agriculture Improvement Act of 2018 (7 U.S.C. 1632d).

* * * * *

(23) Administer the Economic Adjustment Assistance for Textile Mills program (7 U.S.C. 9037(c)).

(24) In coordination with Administrator, Farm Service Agency, administer payments under the Special Competitive Provisions for Extra Long Staple Cotton (7 U.S.C. 9038).

* * * * *

35. Amend § 2.80 by revising paragraphs (a)(14), (19), (26), and (27) and adding paragraphs (a)(49) through (52) to read as follows:

§ 2.80 Administrator, Animal and Plant Health Inspection Service.

(a) * * *

(14) Talmadge-Aiken Act (7 U.S.C. 1633) with respect to cooperation with States in control and eradication of plant and animal diseases and pests.

* * * * *

(19) Section 101(d), Organic Act of 1944 (7 U.S.C. 398).

* * * * *

(26) The Act of March 2, 1931 (7 U.S.C. 8351-8352).

(27) The Act of December 22, 1987 (7 U.S.C. 8353).

* * * * *

(49) Section 11013 of the Food, Conservation, and Energy Act of 2008 (7 U.S.C. 8322).

(50) In coordination with the Chief, Natural Resources Conservation Service, Section 2408 relating to the Feral Swine Eradication and Control Pilot Program (7 U.S.C. 8351 note).

(51) Section 12203(b) of the Agriculture Improvement Act of 2018 relating to diseases and pests of concern (7 U.S.C. 8914(b)).

(52) Section 12601 of the Agriculture Improvement Act of 2018 relating to baiting of migratory game birds (16 U.S.C. 704 note).

* * * * *

Subpart P—Delegations of Authority by the Assistant Secretary for Administration

§ 2.89 [Removed and Reserved]

36. Remove and reserve § 2.89.

§ 2.90 [Amended]

37. Amend § 2.90 by removing paragraphs (a)(1)(vi) and (vii).

38. Add § 2.94 to read as follows:

§ 2.94 Chief Security Director, Office of Safety, Security, and Protection.

(a) Delegations from the Assistant Secretary for Administration. Pursuant to § 2.24(a)(8) and (9), and with due deference for delegations to other Departmental Administration officials, the following delegations of authority are made by the Assistant Secretary for Administration to the Chief Security Director:

(1) Promulgate Departmental policies, standards, techniques, and procedures; and represent the Department in maintaining the security of physical facilities and providing security guidance to the Food and Agricultural Sector nationwide. This includes the following activities:

(i) Lead and coordinate the development and maintenance of a mission critical facility inventory with agency involvement to ensure proper security countermeasures are implemented in the Department's most critical infrastructure.

(ii) Provide guidance to USDA agencies in matters of physical security through use of physical security assessments and development of mitigation strategies.

(iii) Conduct physical security investigations and compliance reviews Department-wide.

(iv) Review and provide coordinated technical physical security assessments for all new construction of laboratories, data centers, germplasm repositories, and other mission critical infrastructure during the design phase, and all leased facilities prior to contract award.

(v) Oversee and manage physical security aspects of the Common Identification Card (LincPass) Program to ensure National Institute of Standards and Technology (NIST) and General Services Administration (GSA) compliancy within the National Capital Region and the physical access to USDA facilities.

(vi) Provide enterprise connectivity to agency physical access control systems that provide cost leveraging and provisioning/de-provisioning nationwide.

(2) Promulgate Departmental regulations, standards, techniques, and procedures and represent the Department in managing and maintaining a comprehensive physical and technical security program including access control, management of special police officer and guard services, executive driving, parking, ID badging in accordance with HSPD-12, occupant emergency and warden services at the USDA Headquarters Complex, George Washington Carver Center and, in coordination with GSA, USDA leased facilities in the Washington, DC metropolitan area, as well as at emergency relocation sites and certain critical facilities specified by the Assistant Secretary for Administration.

(3) Carry out protection operations for the Secretary, Deputy Secretary, and other individuals as specified in Section 12520 of the Agriculture Improvement Act of 2018, including by authorizing law enforcement officers or special agents to carry firearms; conduct criminal investigations into potential threats to the security of individuals protected under Section 12520; make arrests without a warrant for any offense against the United States committed in the presence of the law enforcement officer or special agent; perform protective intelligence work, including identifying and mitigating potential threats and conducting advance work to review security matters relating to sites and events; and coordinate with local law enforcement authorities (7 U.S.C. 2279k).

(b) [Reserved]

39. Amend § 2.95 by revising paragraph (b) to read as follows:

§ 2.95 Director, Office of Homeland Security.

* * * * *

(b) Delegations from the Assistant Secretary for Administration. Pursuant to § 2.24(a)(8), and with due deference for delegations to other Departmental Administration officials, the following delegations of authority are made by the Assistant Secretary for Administration to the Director, Office of Homeland Security:

(1) Serve as the principal advisor to the Secretary on homeland security, including emergency management and agriculture and food defense;

(2) Coordinate activities of the Department, including policies, processes, budget needs, and oversight relating to homeland security, including emergency management and agriculture and food defense;

(3) Act as the primary liaison on behalf of the Department with other Federal departments and agencies in activities relating to homeland security, including emergency management and agriculture and food defense, and provide for interagency coordination and data sharing;

(4) Coordinate in the Department the gathering of information relevant to early warning and awareness of threats and risks to the food and agriculture critical infrastructure sector; and share that information with, and provide assistance with interpretation and risk characterization of that information to, the intelligence community (as defined in 5 U.S.C. 3003), law enforcement agencies, the Secretary of Defense, the Secretary of Homeland Security, the Secretary of Health and Human Services, and State fusion centers (as defined in section 210A(j) of the Homeland Security Act of 2002 (6 U.S.C. 124h(j));

(5) Liaise with the Director of National Intelligence to assist in the development of periodic assessments and intelligence estimates, or other intelligence products, that support the defense of the food and agriculture critical infrastructure sector;

(6) Coordinate the conduct, evaluation, and improvement of exercises to identify and eliminate gaps in preparedness and response;

(7) Produce a Department-wide centralized strategic coordination plan to provide a high-level perspective of the operations of the Department relating to homeland security, including emergency management and agriculture and food defense; and

(8) Establish and carry out an interagency Agriculture and Food Threat Awareness Partnership Program, including by entering into cooperative agreements or contracts with Federal, State, or local authorities (7 U.S.C. 6922).

(9) Administer the Department Emergency Preparedness Program. This includes:

(i) Coordinate the delegations and assignments made to the Department under the Defense Production Act of 1950, 50 U.S.C. App. 2061, et seq.; the Robert T. Stafford Disaster Relief and Emergency Assistance Act, 42 U.S.C. 5121, et seq.; and by Executive Orders 12148, “Federal Emergency Management” (3 CFR, 1979 Comp., p. 412), 12656, “Assignment of Emergency Preparedness Responsibilities” (3 CFR, 1988 Comp., p. 585), and 13603, “National Defense Resources Preparedness” (3 CFR, 2012 Comp., p. 225), or any successor to these Executive Orders, to ensure that the Department has sufficient capabilities to respond to any occurrence, including natural disaster, military attack, technological emergency, or any all hazards incident.

(ii) Manage the Department Emergency Operations Center at Headquarters and the Secretary's alternative facilities; provide senior staff with international, national, and regional situational awareness reports; and provide and maintain current information systems technology and National Security Systems to support USDA executive crisis management capability.

(iii) Provide facilities and equipment to facilitate inter-agency coordination during emergencies.

(iv) Activate the USDA incident management system in accordance with the National Response Framework and the National Incident Management System in the event of a major incident; and provide oversight and coordination of the Department's Emergency Support Functions as outlined in the National Response Framework.

(v) Develop and promulgate policies for the Department regarding emergency preparedness and national security, including matters relating to anti-terrorism and agriculture-related emergency preparedness planning, both national and international, and guidance to USDA State and County Emergency Boards.

(vi) [Reserved]

(vii) Provide representation and liaison for the Department in contacts with other Federal entities and organizations, including the National Security Council, Homeland Security Council, Office of Management and Budget, Department of Homeland Security, Federal Emergency Management Agency, Office of The Director of National Intelligence, and Department of Defense concerning matters of a national security, natural disaster, other emergencies, and agriculture/food-related international civil emergency planning and related activities.

(viii) Act as the primary USDA representative for anti-terrorism activities.

(ix) [Reserved]

(x) Provide guidance and direction regarding radiological emergency preparedness programs and the implementation of the National Response Framework's Nuclear/Radiological Incident Annex to Departmental staff offices, mission areas, and agencies.

(xi) Provide program leadership and coordination for USDA's radiological emergency preparedness requirements with respect to Emergency Management and Assistance (44 CFR parts 350 through 352).

(xii) Represent USDA on the Federal Radiological Preparedness Coordinating Committee (FRPCC) and Regional Assistance Committees (RACs) and assist them in carrying out their functions.

(xiii) Support USDA in its management of the Department's emergency response program with respect to radiological emergency response activities.

(xiv) [Reserved]

(10) Administer the Classified Network, Controlled Unclassified Information, and Insider Threat programs of the Department (E.O. 13587; E.O. 13556 and 32 CFR part 2002).

(11) Serve as the primary point of contact for Government Accountability Office (GAO) and Office of the Inspector General (OIG) audits of USDA homeland security activities.

(12) Coordinate interaction between Department agencies and private sector businesses and industries in emergency planning and public education under Department authorities delegated or assigned under the National Response Framework, National Infrastructure Protection Plan, Defense Production Act of 1950, 50 U.S.C. App. 2061, et seq., and Robert T. Stafford Disaster Relief and Emergency Assistance Act, 42 U.S.C. 5121, et seq.

(13) Oversee the Department's ability to collect and disseminate information and prepare for an agricultural disease emergency, agroterrorist act, or other threat to agricultural biosecurity, and coordinate such activities among agencies and offices within the Department (7 U.S.C. 8912).

(14) Promulgate Departmental policies, standards, techniques, and procedures and represent the Department in providing security guidance to the Food and Agricultural Sector nationwide. This includes the following duties:

(i) Provide guidance to USDA agencies and the Food and Agricultural Sector in matters of security through use of assessments and development of mitigation strategies.

(ii) Represent and act as liaison for the Department in contacts with other Federal security entities and organizations, including the Interagency Security Committee and the Department of Homeland Security.

(iii) Provide guidance and direction to ensure physical security and agriculture/food security are fully integrated in USDA's security preparations, which are reported to and coordinated with the White House.

(iv) Provide assistance to the USDA agencies in preparation for and during a disaster to identify critical assets and possible alternate storage locations.

(15) Provide oversight and coordination of the development and administration of the Department Continuity Program. This includes:

(i) Provide guidance and direction regarding continuity of operations to the Office of the Secretary, Departmental staff offices, mission areas, and agencies.

(ii) Represent and act as liaison for the Department in contacts with other Federal entities and organizations concerning matters of assigned continuity program responsibilities.

(iii) Oversee Department continuity of operations and emergency relocation facility planning, development, equipping, and preparedness to ensure that resources are in a constant state of readiness.

(16) Provide for the development and administration of a Public Trust program for the safeguarding of national security information:

(i) Direct and administer USDA's public trust program established pursuant to 5 CFR part 731 and Executive Order 13488, “Granting Reciprocity on Excepted Service and Federal Contractor Employee Fitness and Reinvestigating Individuals in Positions of Public Trust” (74 FR 4111, 3 CFR, 2010 Comp., p. 189).

(ii) Direct and administer USDA's program under which information is safeguarded pursuant to Executive Order 13526, “Classified National Security Information” (75 FR 707, 3 CFR, 2010 Comp., p. 298), or subsequent orders.

(iii) Establish and maintain Information Security policies and procedures for classifying, declassifying, safeguarding, and disposing of classified national security information and materials.

(iv) Investigate or delegate authority to investigate any potential compromises of classified national security information and take corrective action for violations or infractions under section 5.5(b), of Executive Order 13526 or any subsequent order.

(v) Develop and maintain oversight of all facilities throughout USDA where classified national security information is or will be safeguarded, discussed, or processed including sole authority to liaison with the Central Intelligence Agency concerning guidance, approval, requirements, and oversight of USDA secure facilities.

(vi) Act as the USDA focal point to identify, receive, disseminate and safeguard USDA related intelligence information as required; convey information to USDA policy officials; and liaise with the intelligence community, as appropriate.

(17) Control within USDA the acquisition, use, and disposal of material and equipment that can be a source of ionizing radiation.

(i) Promulgate policies and procedures for ensuring the safety of USDA employees, the public, and the environment resulting from USDA's use of ionizing radiation sources.

(ii) Maintain and ensure compliance with the Nuclear Regulatory Commission regulations (Title 10, Code of Federal Regulations) and license(s) issued to USDA for the acquisition, use, and disposal of radioactive materials.

§ 2.96 [Amended]

40. Amend § 2.96 by removing and reserving paragraph (a)(3).

Subpart T—Delegations of Authority by the Chief Financial Officer

41. Amend § 2.500 by revising the section heading, and in the section text by removing “Deputy Chief Financial Officer” and adding in its place “Principal Deputy Chief Financial Officer”.

The revision reads as follows:

§ 2.500 Principal Deputy Chief Financial Officer.

* * * * *

Subpart U—Delegations of Authority by the Under Secretary for Trade and Foreign Agricultural Affairs

42. Amend § 2.601 by adding paragraphs (a)(21), (46), (49), and (51) to read as follows:

§ 2.601 Administrator, Foreign Agricultural Service.

(a) * * *

(21) Promote cooperation and coordination between 1862, 1890, 1994, and NLGCA Institutions, HSACUs, and cooperating forestry schools and international partner institutions in developing countries by exercising the Secretary's authority in 7 U.S.C. 3292, including coordinating with the Director of the National Institute of Food and Agriculture and Administrator of the Agricultural Research Service to place interns from covered institutions in, or in service to benefit, developing countries.

* * * * *

(46) Administer the International Agricultural Education Fellowship Program (7 U.S.C. 3295).

* * * * *

(49) Compile and make available information relating to the improvement of international food security, and provide technical assistance for the improvement of international food security to Federal, State, or local agencies; agencies or instrumentalities of the government of foreign country; domestic or international organizations; or intergovernmental organizations (7 U.S.C. 1736dd).

* * * * *

(51) In consultation with the Tribal Advisory Committee and the Director of the Office of Tribal Relations, and in coordination with the Secretaries of Commerce, State, Interior, and the heads of any other relevant Federal agencies, implement section 3312 of the Agriculture Improvement Act of 2018 (7 U.S.C. 5608) to support greater inclusion of Tribal agricultural food products in Federal trade activities.

* * * * *

Subpart V—Delegations of Authority by the Director, Office of Partnerships and Public Engagement

43. Amend § 2.700 by revising paragraph (a)(4) to read as follows:

§ 2.700 Director, Office of Advocacy and Outreach.

(a) * * *

(4) Administer section 2501 of the Food, Agriculture, Conservation, and Trade Act of 1990 (7 U.S.C. 2279), as amended, except for the beginning farmer and rancher development program in subsection (d) and authorities related to the Census of Agriculture and economic studies in subsection (j) of that section.

* * * * *

44. Amend § 2.701 by adding paragraphs (a)(6) through (8) to read as follows:

§ 2.701 Director, Office of Tribal Relations.

(a) * * *

(6) Consult with the Administrator, Foreign Agricultural Service on the implementation of section 3312 of the Agriculture Improvement Act of 2018 (7 U.S.C. 5608) to support greater inclusion of Tribal agricultural food products in Federal trade activities.

(7) In coordination with the Administrators of the Rural Utilities Service, Rural Business-Cooperative Service, and Rural Housing Service, provide technical assistance to improve access by Tribal entities to rural development programs funded by the Department of Agriculture through available cooperative agreement authorities (7 U.S.C. 2671).

(8) Oversee the Tribal Advisory Committee (7 U.S.C. 6921).

* * * * *

Stephen L. Censky,
Deputy Secretary of Agriculture.

[FR Doc. 2020-20092 Filed 10-9-20; 8:45 am]

BILLING CODE 3410-90-P